DEPARTMENT OF JUSTICE

Drug Enforcement Administration

[Docket No. DEA-372]

Exempt Chemical Preparations Under the Controlled Substances Act

AGENCY: Drug Enforcement Administration, Department of Justice.

ACTION: Order with opportunity for comment.

SUMMARY: The applications for exempt chemical preparations received by the Drug Enforcement Administration between April 28, 2022, and September 30, 2023, as listed below, were accepted for filing and have been approved or denied as indicated.

DATES: Interested persons may file written comments on this order in accordance with 21 CFR 1308.23(e). Electronic comments must be submitted, and written comments must be postmarked, on or before July 15, 2024. Commenters should be aware that the electronic Federal Docket Management System will not accept comments after 11:59 p.m. Eastern Time on the last day of the comment period.

ADDRESSES: To ensure proper handling of comments, please reference “Docket No. DEA-372” on all correspondence, including any attachments.

Electronic comments: Drug Enforcement Administration (DEA) encourages that all comments be submitted through the Federal eRulemaking Portal, which provides the ability to type short comments directly into the comment field on the web page or to attach a file for lengthier comments. Please go to http://www.regulations.gov and follow the online instructions at that site for submitting comments. Upon completion of your submission you will receive a Comment Tracking Number for your comment. Please be aware that submitted comments are not instantaneously available for public view on Regulations.gov. If you have received a comment tracking number, your comment has been successfully submitted and there is no need to resubmit the same comment.

Paper comments: Paper comments that duplicate the electronic submission are not necessary and are discouraged. Should you wish to mail a comment in lieu of an electronic comment, it should be sent via regular or express mail to: Drug Enforcement Administration, Attention: DEA Federal Register Representative/DRW, 8701 Morrissette Drive, Springfield, Virginia 22152.

FOR FURTHER INFORMATION CONTACT: Terrence L. Boos, Ph.D., Diversion Control Division, Drug Enforcement Administration; Mailing Address: 8701 Morrissette Drive, Springfield, Virginia 22152; Telephone: (571) 362-8201.

SUPPLEMENTARY INFORMATION:

Posting of Public Comments

Please note that all comments received are considered part of the public record and made available for public inspection online at http://www.regulations.gov and in the DEA's public docket. Such information includes personal or business identifying information (such as name, address, State or Federal identifiers, etc.) voluntarily submitted by the commenter. Generally, all information voluntarily submitted by the commenter, unless clearly marked as Confidential Information in the method described below, will be publicly posted. Comments may be submitted anonymously. The Freedom of Information Act applies to all comments received.

Commenters submitting comments which include personal identifying information (PII), confidential or proprietary business information that the commenter does not want made publicly available should submit two copies of the comment. One copy must be marked “CONTAINS CONFIDENTIAL INFORMATION” and should clearly identify all PII or business information the commenter does not want to be made publicly available, including any supplemental materials. DEA will review this copy, including the claimed PII and confidential business information, in its consideration of comments. The second copy should be marked “TO BE PUBLICLY POSTED” and must have all claimed PII and business information redacted. DEA will post only the redacted comment on http://www.regulations.gov for public inspection.

An electronic copy of this document is available at http://www.regulations.gov for easy reference.

Legal Authority

Section 201 of the Controlled Substances Act (CSA) (21 U.S.C. 811) authorizes the Attorney General, by regulation, to exempt from certain provisions of the CSA certain compounds, mixtures, or preparations containing a controlled substance, if he finds that such compounds, mixtures, or preparations meet the requirements detailed in 21 U.S.C. 811(g)(3)(B).¹ The DEA regulations at 21 CFR 1308.23 and 1308.24 further detail the criteria by which the DEA Assistant Administrator may exempt a chemical preparation or mixture from certain provisions of the CSA. The Assistant Administrator may, pursuant to 21 CFR 1308.23(f), modify or revoke the criteria by which exemptions are granted and modify the scope of exemptions at any time.

¹ This authority has been delegated from the Attorney General to the DEA Administrator by 28 CFR 0.100, and subsequently redelegated to the Assistant Administrator pursuant to 28 CFR 0.104 and section 7 of the appendix to subpart R of part 0.

Exempt Chemical Preparation Applications Submitted Between April 28, 2022, and September 30, 2023

DEA received applications between April 28, 2022, and September 30, 2023, requesting exempt chemical preparation status detailed in 21 CFR 1308.23. Pursuant to the criteria stated in 21 U.S.C. 811(g)(3)(B) and in 21 CFR 1308.23, the Assistant Administrator has found that each of the compounds, mixtures, and preparations described in Chart I below is intended for laboratory, industrial, educational, or special research purposes and not for general administration to a human being or animal and either: (1) contains no narcotic controlled substance and is packaged in such a form or concentration that the packaged quantity does not present any significant potential for abuse; or (2) contains either a narcotic or non-narcotic controlled substance and one or more adulterating or denaturing agents in such a manner, combination, quantity, proportion, or concentration that the preparation or mixture does not present any potential for abuse and, if the preparation or mixture contains a narcotic controlled substance, is formulated in such a manner that it incorporates methods of denaturing or other means so that the preparation or mixture is not liable to be abused or have ill effects, if abused, and so that the narcotic substance cannot in practice be removed.

Accordingly, pursuant to 21 U.S.C. 811(g)(3)(B), 21 CFR 1308.23, and 21 CFR 1308.24, the Assistant Administrator has determined that each of the chemical preparations or mixtures generally described in Chart I below and specifically described in the application materials received by DEA is exempt, to the extent described in 21 CFR 1308.24, from application of sections 302, 303, 305, 306, 307, 308, 309, 1002, 1003, and 1004 (21 U.S.C. 822-823, 825-829, and 952-954) of the CSA, and 21 CFR 1301.74, as of the date that was provided in the approval letters to the individual requesters.

Scope of Approval

The exemptions are applicable only to the precise preparation or mixture described in the application submitted to DEA in the form(s) listed in this order and only for those above mentioned sections of the CSA and the CFR. In accordance with 21 CFR 1308.24(h), any change in the quantitative or qualitative composition of the preparation or mixture, or change in the trade name or other designation of the preparation or mixture after the date of application requires a new application. The requirements set forth in 21 CFR 1308.24(b)-(e) apply to the exempted materials. In accordance with 21 CFR 1308.24(g), DEA may prescribe requirements other than those set forth in 21 CFR 1308.24(b)-(e) on a case-by-case basis for materials exempted in bulk quantities. Accordingly, in order to limit opportunities for diversion from the larger bulk quantities, DEA has determined that each of the exempted bulk products listed in this order may only be used in-house by the manufacturer, and may not be distributed for any purpose, or transported to other facilities.

Additional exempt chemical preparation requests received between April 28, 2022, and September 30, 2023, and not otherwise referenced in this order, may remain under consideration until DEA receives additional information required, pursuant to 21 CFR 1308.23(d), as detailed in separate correspondence to individual requesters. DEA's order on such requests will be communicated to the public in a future Federal Register publication.

DEA also notes that these exemptions are limited to exemption from only those sections of the CSA and the CFR that are specifically identified in 21 CFR 1308.24(a). All other requirements of the CSA and the CFR apply, including registration as an importer as required by 21 U.S.C. 957.

Chart I
Supplier | Product name | Form | Application date
Absolute Standards, Inc | (6aR,9R)-Δ10-THC, 100 ug/mL, in Acetonitrile | Glass ampoule: 1 ml | 5/19/2023
Absolute Standards, Inc | (6aR,9S)-Δ10-THC, 100 ug/mL, in Acetonitrile | Glass ampoule: 1 ml | 5/19/2023
Absolute Standards, Inc | 2019 × 560 Mix, 1000 µg/mL, in Methanol | Glass ampoule: 1 mL | 3/9/2023
Absolute Standards, Inc | 2020 × 112 Mix A, 100 µg/mL, in Methanol:Water [9:1] | Glass ampoule: 1 mL | 3/9/2023
Absolute Standards, Inc | 9(R)-Δ7-THC, 100 ug/mL, in Acetonitrile | Glass ampoule: 1 ml | 5/19/2023
Absolute Standards, Inc | 9(S)-Δ7-THC, 100 ug/mL, in Acetonitrile | Glass ampoule: 1 ml | 5/19/2023
Absolute Standards, Inc | Cannabis PT, Varied ug/mL, in Acetonitrile | Glass ampoule: 1 ml | 4/18/2023
Absolute Standards, Inc | LCMS 14BDO Mix, 20 mM, in Methanol | Glass ampoule: 1 ml | 5/6/2022
Absolute Standards, Inc | LCMS 14BDO PT, Varied ug/mL, in Methanol | Glass ampoule: 1 ml | 5/6/2022
Absolute Standards, Inc | LS 2440 Mix #1, Varied ng/mL, in Methanol | Glass ampoule: 1 ml | 4/28/2022
Absolute Standards, Inc | LS 2440 Mix #2, Varied ng/mL, in Methanol | Glass ampoule: 1 ml | 4/28/2022
Absolute Standards, Inc | LS 2440 Mix #3, Varied ng/mL, in Methanol | Glass ampoule: 1 ml | 4/28/2022
Absolute Standards, Inc | Psilocin, 100 µg/mL, in Acetonitrile | Glass ampoule: 1 ml | 2/10/2023
Absolute Standards, Inc | Psilocin, 1000 µg/mL, in Acetonitrile | Glass ampoule: 1 ml | 2/10/2023
Absolute Standards, Inc | Psilocybin, 100 µg/mL, in Acetonitrile:Water [1:1] | Glass ampoule: 1 ml | 2/10/2023
Absolute Standards, Inc | Psilocybin, 1000 µg/mL, in Acetonitrile:Water [1:1] | Glass ampoule: 1 ml | 2/10/2023
Absolute Standards, Inc | Tryptamine Mix, 100 µg/mL, in Acetonitrile:Water [1:1] | Glass ampoule: 1 ml | 2/10/2023
Absolute Standards, Inc | Tryptamine Mix, 1000 µg/mL, in Acetonitrile:Water [1:1] | Glass ampoule: 1 ml | 2/10/2023
Absolute Standards, Inc | Tryptamine PT, Varied µg/g, in Mushroom Matrix [Porcini Powder:Acetonitrile, 1:1] | Glass ampoule: 1 mL | 3/16/2023
Absolute Standards, Inc | Tryptamine PT, Varied µg/mL, in Acetonitrile:Water [1:1] | Glass ampoule: 1 ml | 2/10/2023
Absolute Standards, Inc | Δ10-THC PT, Varied ug/mL, in Acetonitrile | Glass ampoule: 1 ml | 5/19/2023
Absolute Standards, Inc | Δ7-THC PT, Varied ug/mL, in Acetonitrile | Glass ampoule: 1 ml | 5/19/2023
Absolute Standards, Inc | Δ8-Tetrahydrocannabivarin, 100 ug/mL, in Acetonitrile | Glass ampoule: 1 ml | 5/19/2023
Absolute Standards, Inc | Δ8-Tetrahydrocannabivarin, 1000 ug/mL, in Acetonitrile | Glass ampoule: 1 ml | 5/19/2023
Absolute Standards, Inc | Δ9-Tetrahydrocannabiphorol PT, Varied ug/mL, in Acetonitrile | Glass ampoule: 1 ml | 5/19/2023
Absolute Standards, Inc | Δ9-Tetrahydrocannabiphorol, 100 ug/mL, in Acetonitrile | Glass ampoule: 1 ml | 5/19/2023
Absolute Standards, Inc | Δ9-Tetrahydrocannabiphorol, 1000 ug/mL, in Acetonitrile | Glass ampoule: 1 ml | 5/19/2023
ARK Diagnostics | ARK Hydrocodone Calibrator A-E (Kit Reference Number 5076-0002-00) | Kit: 5 Dropper vials, 10 mL each | 7/27/2023
ARK Diagnostics | ARK Hydrocodone Calibrator D (Cutoff) (Kit Reference Number 5076-0002-02) | Kit: 2 Dropper vials, 10 mL each | 7/27/2023
ARK Diagnostics | ARK Hydrocodone Control (Kit Reference Number 5076-0003-00) | Kit: 4 Dropper vials, 10 mL each | 7/27/2023
ASI Chemicals | Dihydrotestosterone- [2H3] (100 µg/mL in methanol) | Glass ampule: 1 mL | 1/28/2023
ASI Chemicals | Testosterone- [2H3] (100 µg/mL in acetonitrile) | Glass ampule: 1 mL | 1/28/2023
ASI Chemicals | Testosterone- [2H5] (100 µg/mL in acetonitrile) | Glass ampule: 1 mL | 1/28/2023
Audit MicroControls, Inc | Linearity FD TDM | Kit: 5 vials, 5 mL each | 8/15/2023
Audit MicroControls, Inc | Linearity FD TDM Level A | Vial: 5 mL | 8/15/2023
Audit MicroControls, Inc | Linearity FD TDM Level B | Vial: 5 mL | 8/15/2023
Audit MicroControls, Inc | Linearity FD TDM Level C | Vial: 5 mL | 8/15/2023
Audit MicroControls, Inc | Linearity FD TDM Level D | Vial: 5 mL | 8/15/2023
Audit MicroControls, Inc | Linearity FD TDM Level E | Vial: 5 mL | 8/15/2023
Biochemical Diagnostics, Inc | Detectabuse Custom Liquid Control Urine, MC284 | Glass vial: 5 mL, 10 mL, 20 mL, 25 mL, 50 mL | 3/1/2023
Biochemical Diagnostics, Inc | Detectabuse Custom Liquid Control Urine, MC285 | Glass vial: 5 mL, 10 mL, 20 mL, 25 mL, 50 mL | 3/1/2023
Biochemical Diagnostics, Inc | Detectabuse Custom Liquid Control Urine, MC286 | Glass vial: 5 mL, 10 mL, 20 mL, 25 mL, 50 mL | 3/1/2023
CAP | 2024 DMPM-01 | HDPE bottle: 40 mL | 6/6/2023
CAP | 2024 DMPM-02 | HDPE bottle: 40 mL | 6/6/2023
CAP | 2024 DMPM-03 | HDPE bottle: 40 mL | 6/6/2023
CAP | 2024 DMPM-05 | HDPE bottle: 40 mL | 6/6/2023
CAP | 2024 DMPM-06 | HDPE bottle: 40 mL | 6/6/2023
CAP | 2024 DMPM-07 | HDPE bottle: 40 mL | 6/6/2023
CAP | 2024 FTC-03 | HDPE bottle: 20 mL | 6/6/2023
CAP | 2024 FTC-05 | HDPE bottle: 20 mL | 6/6/2023
CAP | 2024 FTC-06 | HDPE bottle: 20 mL | 6/6/2023
CAP | 2024 FTC-07 | HDPE bottle: 20 mL | 6/6/2023
CAP | 2024 FTC-08 | HDPE bottle: 20 mL | 6/6/2023
CAP | 2024 FTC-09 | HDPE bottle: 20 mL | 6/6/2023
CAP | 2024 FTC-10 | HDPE bottle: 20 mL | 6/6/2023
CAP | 2024 FTC-12 | HDPE bottle: 20 mL | 6/6/2023
CAP | 2024 FTC-13 | HDPE bottle: 20 mL | 6/6/2023
CAP | 2024 FTC-14 | HDPE bottle: 20 mL | 6/6/2023
CAP | 2024 FTC-15 | HDPE bottle: 20 mL | 6/6/2023
CAP | 2024 OFD-01 | HDPE vial: 2 mL | 6/6/2023
CAP | 2024 OFD-02 | HDPE vial: 2 mL | 6/6/2023
CAP | 2024 OFD-03 | HDPE vial: 2 mL | 6/6/2023
CAP | 2024 OFD-04 | HDPE vial: 2 mL | 6/6/2023
CAP | 2024 OFD-05 | HDPE vial: 2 mL | 6/6/2023
CAP | 2024 OFD-06 | HDPE vial: 2 mL | 6/6/2023
CAP | 2024 OFD-07 | HDPE vial: 2 mL | 6/6/2023
CAP | 2024 OFD-08 | HDPE vial: 2 mL | 6/6/2023
CAP | 2024 OFD-10 | HDPE vial: 2 mL | 6/6/2023
CAP | 2024 OFD-11 | HDPE vial: 2 mL | 6/6/2023
CAP | 2024 OFD-12 | HDPE vial: 2 mL | 6/6/2023
CAP | 2024 OFD-13 | HDPE vial: 2 mL | 6/6/2023
CAP | 2024 OFD-14 | HDPE vial: 2 mL | 6/6/2023
CAP | 2024 OFD-15 | HDPE vial: 2 mL | 6/6/2023
CAP | 2024 OFD-16 | HDPE vial: 2 mL | 6/6/2023
CAP | 2024 OFD-17 | HDPE vial: 2 mL | 6/6/2023
CAP | 2024 OFD-18 | HDPE vial: 2 mL | 6/6/2023
CAP | 2024 OFD-19 | HDPE vial: 2 mL | 6/6/2023
CAP | 2024 OFD-20 | HDPE vial: 2 mL | 6/6/2023
CAP | 2024 T-01 | HDPE bottle: 20 mL | 6/6/2023
CAP | 2024 T-03 | HDPE bottle: 20 mL | 6/6/2023
CAP | 2024 T-04 | HDPE bottle: 20 mL | 6/6/2023
CAP | 2024 T-05 | HDPE bottle: 50 mL | 6/6/2023
CAP | 2024 T-08 | HDPE bottle: 20 mL | 6/6/2023
CAP | 2024 T-09 | HDPE bottle: 20 mL | 6/6/2023
CAP | 2024 T-10 | HDPE bottle: 50 mL | 6/6/2023
CAP | 2024 T-11 | HDPE bottle: 20 mL | 6/6/2023
CAP | 2024 T-13 | HDPE bottle: 20 mL | 6/6/2023
CAP | 2024 T-14 | HDPE bottle: 20 mL | 6/6/2023
CAP | 2024 T-15 | HDPE bottle: 50 mL | 6/6/2023
CAP | 2024 THCB-01 | Glass vial: 10 mL | 6/6/2023
CAP | 2024 THCB-02 | Glass vial: 10 mL | 6/6/2023
CAP | 2024 THCB-03 | Glass vial: 10 mL | 6/6/2023
CAP | 2024 THCB-04 | Glass vial: 10 mL | 6/6/2023
CAP | 2024 THCB-05 | Glass vial: 10 mL | 6/6/2023
CAP | 2024 THCB-06 | Glass vial: 10 mL | 6/6/2023
CAP | 2024 UDS-01 | HDPE bottle: 10 mL | 6/6/2023
CAP | 2024 UDS-02 | HDPE bottle: 10 mL | 6/6/2023
CAP | 2024 UDS-03 | HDPE bottle: 10 mL | 6/6/2023
CAP | 2024 UDS-04 | HDPE bottle: 10 mL | 6/6/2023
CAP | 2024 UDS-05 | HDPE bottle: 10 mL | 6/6/2023
CAP | 2024 UDS-06 | HDPE bottle: 10 mL | 6/6/2023
CAP | 2024 UDS-07 | HDPE bottle: 10 mL | 6/6/2023
CAP | 2024 UDS-08 | HDPE bottle: 10 mL | 6/6/2023
CAP | 2024 UDS-09 | HDPE bottle: 10 mL | 6/6/2023
CAP | 2024 UDS-10 | HDPE bottle: 10 mL | 6/6/2023
CAP | 2024 UDS-11 | HDPE bottle: 10 mL | 6/6/2023
CAP | 2024 UDS-12 | HDPE bottle: 10 mL | 6/6/2023
CAP | 2024 UDS-13 | HDPE bottle: 10 mL | 6/6/2023
CAP | 2024 UDS-14 | HDPE bottle: 10 mL | 6/6/2023
CAP | 2024 UDS-15 | HDPE bottle: 10 mL | 6/6/2023
CAP | 2024 UT-01 | HDPE bottle: 50 mL | 6/6/2023
CAP | 2024 UT-02 | HDPE bottle: 50 mL | 6/6/2023
CAP | 2024 UT-03 | HDPE bottle: 50 mL | 6/6/2023
CAP | 2024 UT-04 | HDPE bottle: 50 mL | 6/6/2023
CAP | 2024 UT-05 | HDPE bottle: 50 mL | 6/6/2023
CAP | 2024 UT-06 | HDPE bottle: 50 mL | 6/6/2023
CAP | 2024 UT-07 | HDPE bottle: 50 mL | 6/6/2023
CAP | 2024 UT-08 | HDPE bottle: 50 mL | 6/6/2023
CAP | 2024 UT-09 | HDPE bottle: 50 mL | 6/6/2023
CAP | 2024 UT-10 | HDPE bottle: 50 mL | 6/6/2023
CAP | 2024 UT-11 | HDPE bottle: 50 mL | 6/6/2023
CAP | 2024 UT-12 | HDPE bottle: 50 mL | 6/6/2023
CAP | 2024 UT-13 | HDPE bottle: 50 mL | 6/6/2023
CAP | 2024 UT-14 | HDPE bottle: 50 mL | 6/6/2023
CAP | 2024 UT-15 | HDPE bottle: 50 mL | 6/6/2023
CAP | 2024 UTCO-01 | HDPE bottle: 40 mL | 6/6/2023
CAP | 2024 ZE-01 | Glass vial: 5 mL | 6/6/2023
CAP | 2024 ZE-02 | Glass vial: 5 mL | 6/6/2023
CAP | 2024 ZE-03 | Glass vial: 5 mL | 6/6/2023
CAP | 2024 ZE-04 | Glass vial: 5 mL | 6/6/2023
CAP | 2024 ZE-05 | Glass vial: 5 mL | 6/6/2023
CAP | 2024 ZE-06 | Glass vial: 5 mL | 6/6/2023
CAP | 2024-OFD-09 | HDPE vial: 2 mL | 6/6/2023
Cayman Chemical Company | (−)-11-hydroxy-Δ8-THC-d3 (exempt preparation) 1 mg/ml in Methanol | Glass ampule: 1.0 mL | 6/8/2023
Cayman Chemical Company | (−)-11-hydroxy-Δ8-THC-d3 (exempt preparation) 100 µg/ml in Methanol | Glass ampule: 1.0 mL | 6/8/2023
Cayman Chemical Company | (±)-cis-Δ8-THC (exempt preparation) 1 mg/ml in Acetonitrile | Glass ampule: 1.0 mL | 2/21/2023
Cayman Chemical Company | (±)-cis-Δ8-THC (exempt preparation) 1 mg/ml in Methanol | Glass ampule: 1.0 mL | 2/21/2023
Cayman Chemical Company | (±)-cis-Δ8-THC (exempt preparation) 100 µg/ml in Acetonitrile | Glass ampule: 1.0 mL | 2/21/2023
Cayman Chemical Company | (±)-cis-Δ8-THC (exempt preparation) 100 µg/ml in Methanol | Glass ampule: 1.0 mL | 2/21/2023
Cayman Chemical Company | (±)-Methadone-d9 (CRM) 1 mg/ml in Methanol | Glass ampule: 1.0 mL | 8/1/2023
Cayman Chemical Company | (±)-Methadone-d9 (CRM) 100 µg/ml in Methanol | Glass ampule: 1.0 mL | 8/1/2023
Cayman Chemical Company | (6aR,9R)-11-hydroxy-Δ10-THC (exempt preparation)1 mg/ml in Methanol | Glass ampule: 1.0 mL | 6/8/2023
Cayman Chemical Company | (6aR,9R)-11-hydroxy-Δ10-THC (exempt preparation)1 mg/ml in Methanol | Glass ampule: 1.0 mL | 6/8/2023
Cayman Chemical Company | (6aR,9R)-11-hydroxy-Δ10-THC (exempt preparation)100 µg/ml in Methanol | Glass ampule: 1.0 mL | 6/8/2023
Cayman Chemical Company | (6aR,9R)-11-hydroxy-Δ10-THC (exempt preparation)100 µg/ml in Methanol | Glass ampule: 1.0 mL | 6/8/2023
Cayman Chemical Company | (9,10a)-anti-Δ6a,7-THC (exempt preparation) 1 mg/ml in Acetonitrile | Glass ampule: 1.0 mL | 6/8/2023
Cayman Chemical Company | (9,10a)-anti-Δ6a,7-THC (exempt preparation) 1 mg/ml in Methanol | Glass ampule: 1.0 mL | 6/8/2023
Cayman Chemical Company | (9,10a)-anti-Δ6a,7-THC (exempt preparation) 100 µg/ml in Methanol | Glass ampule: 1.0 mL | 6/8/2023
Cayman Chemical Company | (9,10a)-anti-Δ6a,7-THC (exempt preparation)1 mg/ml in Acetonitrile | Glass ampule: 1.0 mL | 6/8/2023
Cayman Chemical Company | (9,10a)-syn-Δ6a,7-THC (exempt preparation) 1 mg/ml in Acetonitrile | Glass ampule: 1.0 mL | 6/8/2023
Cayman Chemical Company | (9,10a)-syn-Δ6a,7-THC (exempt preparation) 1 mg/ml in Acetonitrile | Glass ampule: 1.0 mL | 6/8/2023
Cayman Chemical Company | (9,10a)-syn-Δ6a,7-THC (exempt preparation) 1 mg/ml in Methanol | Glass ampule: 1.0 mL | 6/8/2023
Cayman Chemical Company | (9,10a)-syn-Δ6a,7-THC (exempt preparation) 100 µg/ml in Methanol | Glass ampule: 1.0 mL | 6/8/2023
Cayman Chemical Company | 3,4-Methylenedioxy-α-Cyclohexylaminopropiophenone (hydrochloride) (exempt preparation) 1 mg/ml in Methanol | Glass ampule: 1.0 mL | 8/1/2023
Cayman Chemical Company | 3,4-Methylenedioxy-α-propylaminobutiophenone (hydrochloride) (exempt preparation) 1 mg/ml in Methanol | Glass ampule: 1.0 mL | 8/1/2023
Cayman Chemical Company | 3′-hydroxy-Δ9-THC (exempt preparation) 1 mg/ml in Acetonitrile | Glass ampule: 1.0 mL | 2/21/2023
Cayman Chemical Company | 3′-hydroxy-Δ9-THC (exempt preparation) 1 mg/ml in Methanol | Glass ampule: 1.0 mL | 2/21/2023
Cayman Chemical Company | 3′-hydroxy-Δ9-THC (exempt preparation) 100 µg/ml in Acetonitrile | Glass ampule: 1.0 mL | 2/21/2023
Cayman Chemical Company | 3′-hydroxy-Δ9-THC (exempt preparation) 100 µg/ml in Methanol | Glass ampule: 1.0 mL | 2/21/2023
Cayman Chemical Company | 5-fluoro AEB (exempt preparation) 1 mg/ml in Acetonitrile | Glass ampule: 1.0 mL | 2/21/2023
Cayman Chemical Company | 5-fluoro AEB (exempt preparation) 1 mg/ml in Methanol | Glass ampule: 1.0 mL | 2/21/2023
Cayman Chemical Company | 5-methoxy DMT-d4 (exempt preparation) 1 mg/mL in Methanol | Glass ampule: 1.0 mL | 6/8/2023
Cayman Chemical Company | 5-methoxy DMT-d4 (exempt preparation) 1 mg/mL in Methanol | Glass ampule: 1.0 mL | 6/8/2023
Cayman Chemical Company | 6α-Oxymorphol (CRM) 1 mg/ml in Methanol | Glass ampule: 1.0 mL | 2/21/2023
Cayman Chemical Company | 6α-Oxymorphol (CRM) 100 µg/ml in Methanol | Glass ampule: 1.0 mL | 2/21/2023
Cayman Chemical Company | 6β-Naloxol (CRM) 100 µg/ml in Methanol | Glass ampule: 1.0 mL | 6/8/2023
Cayman Chemical Company | 6β-Naloxol (CRM) 1mg/ml in Methanol | Glass ampule: 1.0 mL | 6/8/2023
Cayman Chemical Company | 6β-Naloxol-d5 (CRM) 1 mg/ml in Methanol | Glass ampule: 1.0 mL | 6/8/2023
Cayman Chemical Company | 6β-Naloxol-d5 (CRM) 100 µg/ml in Methanol | Glass ampule: 1.0 mL | 6/8/2023
Cayman Chemical Company | 8α,11-dihydroxy-Δ9-THC (exempt preparation) 1 mg/ml in Acetonitrile | Glass ampule: 1.0 mL | 2/21/2023
Cayman Chemical Company | 8α,11-dihydroxy-Δ9-THC (exempt preparation) 1 mg/ml in Methanol | Glass ampule: 1.0 mL | 2/21/2023
Cayman Chemical Company | 8α,11-dihydroxy-Δ9-THC (exempt preparation) 100 µg/ml in Acetonitrile | Glass ampule: 1.0 mL | 2/21/2023
Cayman Chemical Company | 8α,11-dihydroxy-Δ9-THC (exempt preparation) 100 µg/ml in Methanol | Glass ampule: 1.0 mL | 2/21/2023
Cayman Chemical Company | 8α-hydroxy-exo-THC (exempt preparation) 1 mg/ml in Acetonitrile | Glass ampule: 1.0 mL | 2/21/2023
Cayman Chemical Company | 8α-hydroxy-exo-THC (exempt preparation) 1 mg/ml in Methanol | Glass ampule: 1.0 mL | 2/21/2023
Cayman Chemical Company | 8α-hydroxy-exo-THC (exempt preparation) 100 µg/ml in Acetonitrile | Glass ampule: 1.0 mL | 2/21/2023
Cayman Chemical Company | 8α-hydroxy-exo-THC (exempt preparation) 100 µg/ml in Methanol | Glass ampule: 1.0 mL | 2/21/2023
Cayman Chemical Company | 8α-hydroxy-Δ9-THC (exempt preparation) 1 mg/ml in Methanol | Glass ampule: 1.0 mL | 2/21/2023
Cayman Chemical Company | 8α-hydroxy-Δ9-THC (exempt preparation) 1 mg/ml in Methanol | Glass ampule: 1.0 mL | 2/21/2023
Cayman Chemical Company | 8α-hydroxy-Δ9-THC (exempt preparation) 100 µg/ml in Acetonitrile | Glass ampule: 1.0 mL | 2/21/2023
Cayman Chemical Company | 8α-hydroxy-Δ9-THC (exempt preparation) 100 µg/ml in Acetonitrile | Glass ampule: 1.0 mL | 2/21/2023
Cayman Chemical Company | 8β,11-dihydroxy-Δ9-THC (exempt preparation) 1 mg/ml in Acetonitrile | Glass ampule: 1.0 mL | 2/21/2023
Cayman Chemical Company | 8β,11-dihydroxy-Δ9-THC (exempt preparation) 1 mg/ml in Methanol | Glass ampule: 1.0 mL | 2/21/2023
Cayman Chemical Company | 8β,11-dihydroxy-Δ9-THC (exempt preparation) 100 µg/ml in Acetonitrile | Glass ampule: 1.0 mL | 2/21/2023
Cayman Chemical Company | 8β,11-dihydroxy-Δ9-THC (exempt preparation) 100 µg/ml in Methanol | Glass ampule: 1.0 mL | 2/21/2023
Cayman Chemical Company | 8β-hydroxy-exo-THC (exempt preparation) 1 mg/ml in Acetonitrile | Glass ampule: 1.0 mL | 2/21/2023
Cayman Chemical Company | 8β-hydroxy-exo-THC (exempt preparation) 1 mg/ml in Methanol | Glass ampule: 1.0 mL | 2/21/2023
Cayman Chemical Company | 8β-hydroxy-exo-THC (exempt preparation) 100 µg/ml in Acetonitrile | Glass ampule: 1.0 mL | 2/21/2023
Cayman Chemical Company | 8β-hydroxy-exo-THC (exempt preparation) 100 µg/ml in Methanol | Glass ampule: 1.0 mL | 2/21/2023
Cayman Chemical Company | 8β-hydroxy-Δ9-THC (exempt preparation) 1 mg/ml in Acetonitrile | Glass ampule: 1.0 mL | 2/21/2023
Cayman Chemical Company | 8β-hydroxy-Δ9-THC (exempt preparation) 1 mg/ml in Methanol | Glass ampule: 1.0 mL | 2/21/2023
Cayman Chemical Company | 8β-hydroxy-Δ9-THC (exempt preparation) 100 µg/ml in Acetonitrile | Glass ampule: 1.0 mL | 2/21/2023
Cayman Chemical Company | 8β-hydroxy-Δ9-THC (exempt preparation) 100 µg/ml in Acetonitrile | Glass ampule: 1.0 mL | 2/21/2023
Cayman Chemical Company | 9(R)-11-hydroxy-Δ6a,10a-THC (exempt preparation) 1 mg/ml in Methanol | Glass ampule: 1.0 mL | 6/8/2023
Cayman Chemical Company | 9(R)-11-hydroxy-Δ6a,10a-THC (exempt preparation) 100 µg/ml in Methanol | Glass ampule: 1.0 mL | 6/8/2023
Cayman Chemical Company | 9(S)-11-hydroxy-Δ6a,10a-THC (exempt preparation) 100 µg/ml in Methanol | Glass ampule: 1.0 mL | 6/8/2023
Cayman Chemical Company | 9(S)-11-hydroxy-Δ6a,10a-THC (exempt preparation)1 mg/ml in Methanol | Glass ampule: 1.0 mL | 6/8/2023
Cayman Chemical Company | BDB (hydrochloride) (exempt preparation) 1 mg/ml in Methanol | Glass ampule: 1.0 mL | 2/21/2023
Cayman Chemical Company | BDB (hydrochloride) (exempt preparation) 100 µg/ml in Methanol | Glass ampule: 1.0 mL | 2/21/2023
Cayman Chemical Company | Benzodiazepine Mixture 1 (CRM) 100 µg/ml in Acetonitrile | Glass ampule: 1.0 mL | 6/8/2023
Cayman Chemical Company | Benzodiazepine Mixture 1 (CRM) 100 µg/ml in Methanol | Glass ampule: 1.0 mL | 6/8/2023
Cayman Chemical Company | Cannabidiol Conversion GC-MS Mixture 1 mg/ml in Acetonitrile | Glass ampule: 1.0 mL | 6/8/2023
Cayman Chemical Company | Cannabidiol Conversion GC-MS Mixture 1 mg/ml in Methanol | Glass ampule: 1.0 mL | 6/8/2023
Cayman Chemical Company | Cannabidiol Conversion GC-MS Mixture 500 µg/ml in Acetonitrile | Glass ampule: 1.0 mL | 6/8/2023
Cayman Chemical Company | Cannabidiol Conversion GC-MS Mixture 500 µg/ml in Methanol | Glass ampule: 1.0 mL | 6/8/2023
Cayman Chemical Company | Chlordiazepoxide (CRM) 1 mg/ml in Methanol | Glass ampule: 1.0 mL | 8/1/2023
Cayman Chemical Company | Chlordiazepoxide (CRM) 100 µg/ml in Methanol | Glass ampule: 1.0 mL | 8/1/2023
Cayman Chemical Company | Chlordiazepoxide-D5 (CRM) 1 mg/ml in Methanol | Glass ampule: 1.0 mL | 8/1/2023
Cayman Chemical Company | Chlordiazepoxide-D5 (CRM) 100 µg/ml in Methanol | Glass ampule: 1.0 mL | 8/1/2023
Cayman Chemical Company | EMB-FUBINACA (exempt preparation) 1 mg/ml in Acetonitrile | Glass ampule: 1.0 mL | 2/21/2023
Cayman Chemical Company | EMB-FUBINACA (exempt preparation) 1 mg/ml in Methanol | Glass ampule: 1.0 mL | 2/21/2023
Cayman Chemical Company | Etodesnitazene (citrate) (exempt preparation) 1 mg/ml in Acetonitrile | Glass ampule: 1.0 mL | 2/21/2023
Cayman Chemical Company | Etodesnitazene (citrate) (exempt preparation) 1 mg/ml in Methanol | Glass ampule: 1.0 mL | 2/21/2023
Cayman Chemical Company | Etodesnitazene (citrate) (exempt preparation) 100 µg/ml in Acetonitrile | Glass ampule: 1.0 mL | 2/21/2023
Cayman Chemical Company | Etodesnitazene (citrate) (exempt preparation) 100 µg/ml in Methanol | Glass ampule: 1.0 mL | 2/21/2023
Cayman Chemical Company | Flunitazene (hydrochloride) (exempt preparation) 1 mg/mL in Methanol | Glass ampule: 1.0 mL | 6/8/2023
Cayman Chemical Company | Flunitazene (hydrochloride) (exempt preparation) 1 mg/mL in Methanol | Glass ampule: 1.0 mL | 6/8/2023
Cayman Chemical Company | Ibogaine (hydrochloride) (CRM) 1 mg/ml in Methanol | Glass ampule: 1.0 mL | 8/1/2023
Cayman Chemical Company | Ibogaine (hydrochloride) (CRM) 100 µg/ml in Methanol | Glass ampule: 1.0 mL | 8/1/2023
Cayman Chemical Company | iso-LSD (exempt preparation) 25 µg/mL in Acetonitrile | Glass ampule: 1.0 mL | 4/6/2023
Cayman Chemical Company | iso-LSD (exempt preparation) 50 µg/mL in Acetonitrile | Glass ampule: 1.0 mL | 4/6/2023
Cayman Chemical Company | iso-LSD (exempt preparation) 50 µg/mL in Acetonitrile | Glass ampule: 0.5 mL | 4/6/2023
Cayman Chemical Company | Ketamine-d4 (CRM) 1 mg/ml in Methanol | Glass ampule: 1.0 mL | 8/1/2023
Cayman Chemical Company | Ketamine-d4 (CRM) 100 µg/ml in Methanol | Glass ampule: 1.0 mL | 8/1/2023
Cayman Chemical Company | LSB (exempt preparation) 25 µg/ml in Acetonitrile | Glass ampule: 1.0 mL | 8/1/2023
Cayman Chemical Company | LSB (exempt preparation) 50 µg/ml in Acetonitrile | Glass ampule: 1.0 mL | 8/1/2023
Cayman Chemical Company | Mescaline-d4 (CRM) 1 mg/ml in Methanol | Glass ampule: 1.0 mL | 6/8/2023
Cayman Chemical Company | Methohexital (exempt preparation) 1 mg/ml in Acetonitrile | Glass ampule: 1.0 mL | 8/1/2023
Cayman Chemical Company | Methohexital (exempt preparation) 1 mg/ml in Methanol | Glass ampule: 1.0 mL | 8/1/2023
Cayman Chemical Company | Metonitazene (citrate) (exempt preparation) 1 mg/ml in Methyl Acetate | Glass ampule: 1.0 mL | 6/8/2023
Cayman Chemical Company | Metonitazene (citrate) (exempt preparation) 100 µg/ml in Methyl Acetate | Glass ampule: 1.0 mL | 6/8/2023
Cayman Chemical Company | Metonitazene (exempt preparation) (exempt preparation) 1 mg/ml in Methanol | Glass ampule: 1.0 mL | 6/8/2023
Cayman Chemical Company | Metonitazene (exempt preparation) 100 µg/ml in Acetonitrile | Glass ampule: 1.0 mL | 6/8/2023
Cayman Chemical Company | Norhydrocodone (hydrochloride) (CRM) 1 mg/ml in Methanol | Glass ampule: 1.0 mL | 2/21/2023
Cayman Chemical Company | Norhydrocodone (hydrochloride) (CRM) 100 µg/ml in Methanol | Glass ampule: 1.0 mL | 2/21/2023
Cayman Chemical Company | Noroxymorphone (exempt preparation) 1 mg/ml in Methanol | Glass ampule: 1.0 mL | 2/21/2023
Cayman Chemical Company | Noroxymorphone (exempt preparation) 1 mg/ml in Methanol:DMSO (80:20) | Glass ampule: 1.0 mL | 2/21/2023
Cayman Chemical Company | Noroxymorphone (exempt preparation) 100 µg/ml in Methanol | Glass ampule: 1.0 mL | 2/21/2023
Cayman Chemical Company | Noroxymorphone (exempt preparation) 100 µg/ml in Methanol:DMSO (80:20) | Glass ampule: 1.0 mL | 2/21/2023
Cayman Chemical Company | ortho-methoxy Butyryl fentanyl (hydrochloride) (exempt preparation) 100 µg/ml in Methanol | Glass ampule: 1.0 mL | 8/1/2023
Cayman Chemical Company | Phytocannabinoid Acids Mixture 7 (CRM) 1 mg/mL ea in 99:1 Acetonitrile:DIPEA (w. 0.05% Ascorbic acid) | Glass ampule: 1.0 mL | 4/6/2023
Cayman Chemical Company | Phytocannabinoid Acids Mixture 7 (CRM) 500 µg/mL ea in 99:1 Acetonitrile:DIPEA (w. 0.05% Ascorbic acid) | Glass ampule: 1.0 mL | 4/6/2023
Cayman Chemical Company | Phytocannabinoid Neutrals Mixture 9 (CRM) 1 mg/ml ea in Acetonitrile | Glass ampule: 1.0 mL | 4/6/2023
Cayman Chemical Company | Phytocannabinoid Neutrals Mixture 9 (CRM) 1 mg/ml ea in Methanol | Glass ampule: 1.0 mL | 4/6/2023
Cayman Chemical Company | Phytocannabinoid Neutrals Mixture 9 (CRM) 500 µg/mL ea in Acetonitrile | Glass ampule: 1.0 mL | 4/6/2023
Cayman Chemical Company | Phytocannabinoid Neutrals Mixture 9 (CRM) 500 µg/mL ea in Methanol | Glass ampule: 1.0 mL | 4/6/2023
Cayman Chemical Company | Pregabalin (CRM) 1 mg/ml in Methanol | Glass ampule: 1.0 mL | 2/21/2023
Cayman Chemical Company | Retigabine (exempt preparation) 1 mg/ml in Acetonitrile | Glass ampule: 1.0 mL | 8/1/2023
Cayman Chemical Company | Retigabine (exempt preparation) 1 mg/ml in Methanol | Glass ampule: 1.0 mL | 8/1/2023
Cayman Chemical Company | Retigabine (hydrochloride) (exempt preparation) 1 mg/ml in Acetonitrile | Glass ampule: 1.0 mL | 8/1/2023
Cayman Chemical Company | Retigabine (hydrochloride) (exempt preparation) 1 mg/ml in Methanol | Glass ampule: 1.0 mL | 8/1/2023
Cayman Chemical Company | Sufentanil (CRM) 100 µg/ml in Methanol | Glass ampule: 1.0 mL | 2/21/2023
Cayman Chemical Company | Sufentanil (CRM) 100 µg/ml in Methanol | Glass ampule: 0.5 mL | 2/21/2023
Cayman Chemical Company | Sufentanil-d5 (CRM) 100 µg/ml in Methanol | Glass ampule: 0.5 mL | 2/21/2023
Cayman Chemical Company | Sufentanil-d5 (CRM) 100 µg/ml in Methanol | Glass ampule: 1.0 mL | 2/21/2023
Cayman Chemical Company | Tetrahydrocannabivarin Acetate (exempt preparation) | Glass ampule: 1.0 mL | 2/21/2023
Cayman Chemical Company | Tetrahydrocannabivarin Acetate (exempt preparation) 1 mg/ml in Acetonitrile | Glass ampule: 1.0 mL | 2/21/2023
Cayman Chemical Company | Tetrahydrocannabivarin Acetate (exempt preparation) 1 mg/ml in Methanol | Glass ampule: 1.0 mL | 2/21/2023
Cayman Chemical Company | Tetrahydrocannabivarin Acetate (exempt preparation) 100 µg/ml in Methanol | Glass ampule: 1.0 mL | 2/21/2023
Cayman Chemical Company | THC Isomer GC Mixture 100 µg/ml ea in Acetonitrile | Glass ampule: 1.0 mL | 6/8/2023
Cayman Chemical Company | THC Isomer GC Mixture 100 µg/ml ea in Methanol | Glass ampule: 1.0 mL | 6/8/2023
Cayman Chemical Company | THC Isomer GC Mixture 250 µg/ml ea in Methanol | Glass ampule: 1.0 mL | 6/8/2023
Cayman Chemical Company | THC Isomer GC Mixture 250 µg/ml ea in Methanol | Glass ampule: 1.0 mL | 6/8/2023
Cayman Chemical Company | Δ8-Tetrahydrocannabivarin Acetate (exempt preparation) 1 mg/ml in Acetonitrile | Glass ampule: 1.0 mL | 2/21/2023
Cayman Chemical Company | Δ8-Tetrahydrocannabivarin Acetate (exempt preparation) 1 mg/ml in Methanol | Glass ampule: 1.0 mL | 2/21/2023
Cayman Chemical Company | Δ8-Tetrahydrocannabivarin Acetate (exempt preparation) 100 µg/ml in Acetonitrile | Glass ampule: 1.0 mL | 2/21/2023
Cayman Chemical Company | Δ8-Tetrahydrocannabivarin Acetate (exempt preparation) 100 µg/ml in Methanol | Glass ampule: 1.0 mL | 2/21/2023
Cerilliant Corporation | (±)-Amphetamine-13C6 HCl | Amber ampule: 1 mL | 3/1/2023
Cerilliant Corporation | (±)-Methamphetamine-13C6 HCl | Amber ampule: 1 mL | 3/1/2023
Cerilliant Corporation | Brorphine-D4 HCl 0.1 mg/mL in 1 mL Solvent | Amber ampule: 1 mL | 9/6/2023
Cerilliant Corporation | Bufotenine HCl 1.0 mg/mL in 1 mL Solvent | Amber ampule: 1 mL | 9/29/2023
Cerilliant Corporation | Bufotenine-D4 HCl 0.1 mg/mL in 1 mL Solvent | Amber ampule: 1 mL | 9/29/2023
Cerilliant Corporation | Butonitazene HCl 1.0 mg/mL (as free base) in 1 mL Solvent | Amber ampule: 1 mL | 5/5/2023
Cerilliant Corporation | Cannabidiol Mixture—17 Components 0.25 mg/mL (each analyte) in 1 mL Solvent | Amber ampule: 1 mL | 5/5/2023
Cerilliant Corporation | Delta9-Tetrahydrocannibibutol (delta9-THCB) 1.0 mg/mL (as free base) in 1 mL Solvent | Amber ampule: 1 mL | 7/6/2023
Cerilliant Corporation | Dronabinol Reference Standard (1.0 mg/mL) | Glass ampule: 1 mL | 6/20/2023
Cerilliant Corporation | Etodesnitazene HCl 1.0 mg/mL (as free base) in 1 mL Solvent | Amber ampule: 1 mL | 5/5/2023
Cerilliant Corporation | Etodesnitazene-D4 HCl 0.1 mg/mL (as free base) in 1 mL Solvent | Amber ampule: 1 mL | 7/6/2023
Cerilliant Corporation | Etonitazene HCl | Amber ampule: 1 mL | 3/1/2023
Cerilliant Corporation | Etonitazene-13C6 HCl | Amber ampule: 1 mL | 3/1/2023
Cerilliant Corporation | Mescaline-D3 HCl 0.1 mg/ml (free base) in 1 ml solvent | Amber ampule: 1 mL | 10/21/2022
Cerilliant Corporation | Methylphenidate HCl Erythro isomer (as free base) in 1 mL Solvent | Amber ampule: 1 mL | 5/5/2023
Cerilliant Corporation | Metonitazene HCl 1.0 mg/mL (as free base) in 1 mL Solvent | Amber ampule: 1 mL | 5/5/2023
Cerilliant Corporation | Nordesomorphine-D3 (as free base) in 0.1 mL Solvent | Amber ampule: 1 mL | 7/6/2023
Cerilliant Corporation | N-Pyrrolidino Etonitazene HCl 1.0 mg/mL (as free base) in 1 mL Solvent | Amber ampule: 1 mL | 5/5/2023
Cerilliant Corporation | Retigabine 1.0 mg/mL in 1 mL Solvent | Amber ampule: 1 mL | 9/6/2023
Cerilliant Corporation | Tapentadol-D3-beta-D-glucoronide 0.1 mg/mL (as free base) in 1 mL Solvent | Amber ampule: 1 mL | 5/5/2023
Cerilliant Corporation | Testosterone Quality Control 1 | Polypropylene bottle: 0.25 mL | 9/7/2023
Cerilliant Corporation | Testosterone Quality Control 2 | Polypropylene bottle: 0.25 mL | 9/7/2023
Cerilliant Corporation | Testosterone Standard | Polypropylene bottle: 0.25 mL | 9/7/2023
Cerilliant Corporation | THC-O-Acetate (1.0 mg/mL) | Glass ampule: 1.0 mL | 1/10/2023
CFSAA—RTI International | 12198-76-7 | Glass vial: 7mL | 6/6/2023
Cliniqa Corporation | Sentinel TDM Control Level 1, Part: 43850 | Vial: 5 ml | 3/24/2023
Cliniqa Corporation | TDM Control Level 2, Part: 43851 | Vial: 5 ml | 3/24/2023
Cliniqa Corporation | TDM Control Level 3, Part: 43852 | Vial: 5 ml | 3/24/2023
College of American Pathologists (CAP) | 2024 NOB-01 | Amber Vial: 15 mL | 7/21/2023
College of American Pathologists (CAP) | 2024 NOB-02 | Amber Vial: 15 mL | 7/21/2023
College of American Pathologists (CAP) | 2024 NOB-03 | Amber Vial: 15 mL | 7/21/2023
College of American Pathologists (CAP) | 2024 NOB-04 | Amber Vial: 15 mL | 7/21/2023
College of American Pathologists (CAP) | 2024 NOB-05 | Amber Vial: 15 mL | 7/21/2023
College of American Pathologists (CAP) | 2024 NOB-06 | Amber Vial: 15 mL | 7/21/2023
College of American Pathologists (CAP) | 2024 SCDD-01 | HDPE Bottle: 10 mL | 7/21/2023
College of American Pathologists (CAP) | 2024 SCDD-02 | HDPE Bottle: 10 mL | 7/21/2023
College of American Pathologists (CAP) | 2024 SCDD-03 | HDPE Bottle: 10 mL | 7/21/2023
College of American Pathologists (CAP) | 2024 SCDD-04 | HDPE Bottle: 10 mL | 7/21/2023
College of American Pathologists (CAP) | 2024 SCDD-05 | HDPE Bottle: 10 mL | 7/21/2023
College of American Pathologists (CAP) | 2024 SCDD-06 | HDPE Bottle: 10 mL | 7/21/2023
CPI International | Z-116470-01 Z-116470-01 1, 2000 mg/L, 1 mL | Amber ampule: 1 mL | 8/23/2023
LGC | (LGC) Chemistry | Amber vial: 5 mL | 1/17/2023
LGC—Dr. Ehrenstorfer | Custom Pharmaceutical Mixture 12300 8:100 ug/mL in Acetonitrile | 5 amber ampule × 1 mL | 1/19/2023
LGC—Dr. Ehrenstorfer | DRE-BE1214-PS1 Custom Drug Standard, Various Concentrations (ISO17034) | Amber ampule: 1 mL | 8/23/2023
LGC—Dr. Ehrenstorfer | DRE-BE1214-PS2 Custom Drug Standard, Various Concentrations (ISO17034) | Amber ampule: 1 mL | 8/23/2023
LGC—Dr. Ehrenstorfer | GB 31658.14-2021 Trenbolones Mixture 48 100 μg/mL in Methanol | Amber ampule: 1 mL | 5/16/2023
LGC—Dr. Ehrenstorfer | Tetrahydrocannabiphenol (THCP)100 ug/mL in Acetonitrile | Amber ampule: 1 mL | 2/16/2023
LGC Clinical Diagnostics, Inc | 0.1 µg/mL Androstenedione (ASD) Stock B | Plastic tube: 15-50 mL | 4/17/2023
LGC Clinical Diagnostics, Inc | 0.5 µg/mL Didydrotestosterone (DHT) Stock B | Plastic tube: 15-50 mL | 4/17/2023
LGC Clinical Diagnostics, Inc | 100 µg/mL Androstenedione Stock A | Plastic tube: 15-50 mL | 4/17/2023
LGC Clinical Diagnostics, Inc | 100 µg/mL Didydrotestosterone (DHT) Stock A | Plastic tube: 15-50 mL | 4/17/2023
LGC Clinical Diagnostics, Inc | 100 ng/mL Testosterone (TSTO) Stock B | Plastic tube: 15-50 mL | 4/17/2023
LGC Clinical Diagnostics, Inc | LCMS Steroids 1003ro Bulk Level 1 | Bottles or carboys: 500-5000 mL | 4/17/2023
LGC Clinical Diagnostics, Inc | LCMS Steroids 1003ro Bulk Level 2 | Bottles or carboys: 500-5000 mL | 4/17/2023
LGC Clinical Diagnostics, Inc | LCMS Steroids 1003ro Bulk Level 3 | Bottles or carboys: 500-5000 mL | 4/17/2023
LGC Clinical Diagnostics, Inc | LCMS Steroids 1003ro Bulk Level 4 | Bottles or carboys: 500-5000 mL | 4/17/2023
LGC Clinical Diagnostics, Inc | LCMS Steroids 1003ro Bulk Level 5 | Bottles or carboys: 500-5000 mL | 4/17/2023
LGC Clinical Diagnostics, Inc | LCMS Steroids 1003ro WrkBlk Level 1 | Bottles or carboys: 500-5000 mL | 4/17/2023
LGC Clinical Diagnostics, Inc | LCMS Steroids 1003ro WrkBlk Level 5 | Bottles or carboys: 500-5000 mL | 4/17/2023
LGC Clinical Diagnostics, Inc | LCMS TDM1 ro—Bulk Level 1 | Bottles or carboys: 500-5000 mL | 5/3/2023
LGC Clinical Diagnostics, Inc | LCMS TDM1 ro—Bulk Level 2 | Bottles or carboys: 500-5000 mL | 5/3/2023
LGC Clinical Diagnostics, Inc | LCMS TDM1 ro—Bulk Level 3 | Bottles or carboys: 500-5000 mL | 5/3/2023
LGC Clinical Diagnostics, Inc | LCMS TDM1 ro—Bulk Level 4 | Bottles or carboys: 500-5000 mL | 5/3/2023
LGC Clinical Diagnostics, Inc | LCMS TDM1 ro—Bulk Level 5 | Bottles or carboys: 500-5000 mL | 5/3/2023
LGC Clinical Diagnostics, Inc | LCMS TDM1 ro WrkBlk—Level 1 | Bottles or carboys: 500-5000 mL | 5/3/2023
LGC Clinical Diagnostics, Inc | TSTO Stock A 100,000 ng/mL | Plastic tube: 15-50 mL | 4/17/2023
LGC Clinical Diagnostics, Inc | VALIDATE Fertility 2 504re Bulk—Level 5 | Plastic/Nalgene bottles or carboys: 125-8000 mL | 9/19/2023
LGC Clinical Diagnostics, Inc | VALIDATE Fertility 2 504re Bulk—Level 1 | Plastic/Nalgene bottles or carboys: 125-8000 mL | 9/19/2023
LGC Clinical Diagnostics, Inc | VALIDATE Fertility 2 504re Bulk—Level 2 | Plastic/Nalgene bottles or carboys: 125-8000 mL | 9/19/2023
LGC Clinical Diagnostics, Inc | VALIDATE Fertility 2 504re Bulk—Level 3 | Plastic/Nalgene bottles or carboys: 125-8000 mL | 9/19/2023
LGC Clinical Diagnostics, Inc | VALIDATE Fertility 2 504re Bulk—Level 4 | Plastic/Nalgene bottles or carboys: 125-8000 mL | 9/19/2023
LGC Clinical Diagnostics, Inc | VALIDATE Fertility 2 504re WrkBlk—Level 1 | Plastic/Nalgene bottles or carboys: 125-8000 mL | 9/19/2023
LGC Clinical Diagnostics, Inc | VALIDATE Fertility 2 504re WrkBlk—Level 5 | Plastic/Nalgene bottles or carboys: 125-8000 mL | 9/19/2023
LGC Clinical Diagnostics, Inc | VALIDATE Fertility 2 Test Set 504re | 5 Dropper bottles: 3 mL each | 9/19/2023
LGC Clinical Diagnostics, Inc | VALIDATE LCMS Steroids Test Set | Kit: 5 bottles, 5 mL each | 4/17/2023
LGC Clinical Diagnostics, Inc | VALIDATE LCMS TDM1 Test Set | Kit: 5 bottles, 5 mL each | 5/3/2023
LGC GmbH | Lacosamide 1.0 mg/ml in acetonitrile | Glass vial: 1 mL | 5/2/2023
LGC GmbH | LGCAMP0004.20-34 | Glass ampule: 1 mL | 8/9/2023
LGC GmbH | LGCAMP0004.82-34 | Glass ampule: 1 mL | 8/9/2023
LGC GmbH | LGCAMP0037.16-34 | Glass ampule: 1 mL | 8/9/2023
LGC GmbH | LGCAMP0037.21-11 | Glass ampule: 1 mL | 8/9/2023
LGC GmbH | LGCAMP0037.84-34 | Glass ampule: 1 mL | 8/9/2023
LGC GmbH | LGCAMP0120.10-01 | Glass ampule: 1 mL | 8/9/2023
LGC GmbH | LGCAMP0120.10-02 | Glass ampule: 1 mL | 8/9/2023
LGC GmbH | LGCAMP0528.80-02 | Glass ampule: 1 mL | 8/9/2023
LGC GmbH | LGCAMP0733.00-01 | Glass ampule: 1 mL | 8/9/2023
LGC GmbH | LGCAMP0733.00-02 | Glass ampule: 1 mL | 8/9/2023
LGC GmbH | LGCAMP0741.86-02 | Glass ampule: 1 mL | 8/9/2023
LGC GmbH | LGCAMP0741.87-01 | Glass ampule: 1 mL | 8/9/2023
LGC GmbH | LGCAMP0741.87-02 | Glass ampule: 1 mL | 8/9/2023
LGC GmbH | LGCAMP0964.89-01 | Glass ampule: 1 mL | 8/9/2023
LGC GmbH | LGCAMP0964.89-02 | Glass ampule: 1 mL | 8/9/2023
LGC GmbH | LGCAMP0991.00-01 | Glass ampule: 1 mL | 8/9/2023
LGC GmbH | LGCAMP1088.00-01 | Glass ampule: 1 mL | 8/9/2023
LGC GmbH | LGCAMP1088.00-02 | Glass ampule: 1 mL | 8/9/2023
LGC GmbH | LGCAMP1088.00-05 | Glass ampule: 1 mL | 8/9/2023
LGC GmbH | LGCAMP1088.01-01 | Glass ampule: 1 mL | 8/9/2023
LGC GmbH | LGCAMP1088.03-02 | Glass ampule: 1 mL | 8/9/2023
LGC GmbH | LGCAMP1275.30-01 | Glass ampule: 1 mL | 8/9/2023
LGC GmbH | LGCAMP1275.32-01 | Glass ampule: 1 mL | 8/9/2023
LGC GmbH | LGCAMP1275.33-29 | Glass ampule: 1 mL | 8/9/2023
LGC GmbH | LGCAMP1275.42-01 | Glass ampule: 1 mL | 8/9/2023
LGC GmbH | LGCAMP1275.55-11 | Glass ampule: 1 mL | 8/9/2023
LGC GmbH | LGCAMP1275.59-01 | Glass ampule: 1 mL | 8/9/2023
LGC GmbH | LGCAMP1275.62-01 | Glass ampule: 1 mL | 8/9/2023
LGC GmbH | LGCAMP1275.65-01 | Glass ampule: 1 mL | 8/9/2023
LGC GmbH | LGCAMP1343.34-02 | Glass ampule: 1 mL | 8/9/2023
LGC GmbH | LGCAMP1360.01-01 | Glass ampule: 1 mL | 8/9/2023
LGC GmbH | LGCAMP1361.00-01 | Glass ampule: 1 mL | 8/9/2023
LGC GmbH | LGCAMP1366.21-11 | Glass ampule: 1 mL | 8/9/2023
LGC GmbH | LGCAMP1371.80-02 | Glass ampule: 1 mL | 8/9/2023
LGC GmbH | LGCAMP1387.03-01 | Glass ampule: 1 mL | 8/9/2023
LGC GmbH | LGCAMP1387.04-01 | Glass ampule: 1 mL | 8/9/2023
LGC GmbH | LGCAMP1387.08-01 | Glass ampule: 1 mL | 8/9/2023
LGC GmbH | LGCAMP1396.09-12 | Glass ampule: 1 mL | 8/9/2023
LGC GmbH | LGCAMP1396.14-11 | Glass ampule: 1 mL | 8/9/2023
LGC GmbH | LGCAMP1396.17-11 | Glass ampule: 1 mL | 8/9/2023
LGC GmbH | LGCAMP1396.17-12 | Glass ampule: 1 mL | 8/9/2023
LGC GmbH | LGCAMP1397.13-01 | Glass ampule: 1 mL | 8/9/2023
LGC GmbH | LGCAMP1625.00-01 | Glass ampule: 1 mL | 8/9/2023
LGC GmbH | LGCAMP1625.00-02 | Glass ampule: 1 mL | 8/9/2023
LGC GmbH | LGCAMP1700.00-01 | Glass ampule: 1 mL | 8/9/2023
LGC GmbH | LGCAMP1700.00-02 | Glass ampule: 1 mL | 8/9/2023
LGC GmbH | LGCAMP1721.00-01 | Glass ampule: 1 mL | 8/9/2023
LGC GmbH | LGCAMP1721.00-02 | Glass ampule: 1 mL | 8/9/2023
LGC GmbH | LGCAMP3560.00-11 | Glass ampule: 1 mL | 8/9/2023
LGC GmbH | Morphine 6-beta-D-Glucuronide 1.0 mg/ml in Water | Glass vial: 1 mL | 5/3/2023
LGC GmbH | Norfentanyl-D5 Oxalate 1.0 mg/ml in methanol | Glass vial: 1 mL | 5/2/2023
Lin-Zhi International | Amphetamine 500 DAU Calibrator (Urine), Methamphetamine, Cutoff Calibrator, Ref #0103 | Dropper bottle: 5 mL | 3/13/2023
Lin-Zhi International | Amphetamine 500 DAU Calibrator (Urine), Methamphetamine, High Calibrator, Ref #0105 | Dropper bottle: 5 mL | 3/13/2023
Lin-Zhi International | Amphetamine 500 DAU Calibrator (Urine), Methamphetamine, Intermediate Calibrator, Ref #0104 | Dropper bottle: 5 mL | 3/13/2023
Lin-Zhi International | Amphetamine 500 DAU Calibrator (Urine), Methamphetamine, Low Calibrator, Ref #0102 | Dropper bottle: 5 mL | 3/13/2023
Lin-Zhi International | Amphetamine 500 DAU Control (Urine), Methamphetamine, Level 1 Control, Ref #0107 | Dropper bottle: 5 mL | 3/13/2023
Lin-Zhi International | Amphetamine 500 DAU Control (Urine), Methamphetamine, Level 2 Control, Ref #0108 | Dropper bottle: 5 mL | 3/13/2023
Lin-Zhi International | Amphetamine DAU Calibrator (Urine), Methamphetamine, Cutoff Calibrator, Ref #0043 | Dropper bottle: 5 mL | 3/13/2023
Lin-Zhi International | Amphetamine DAU Calibrator (Urine), Methamphetamine, High Calibrator, Ref #0045 | Dropper bottle: 5 mL | 3/13/2023
Lin-Zhi International | Amphetamine DAU Calibrator (Urine), Methamphetamine, Intermediate Calibrator, Ref #0044 | Dropper bottle: 5 mL | 3/13/2023
Lin-Zhi International | Amphetamine DAU Calibrator (Urine), Methamphetamine, Low Calibrator, Ref #0042 | Dropper bottle: 5 mL | 3/13/2023
Lin-Zhi International | Amphetamine DAU Control (Urine), Methamphetamine, Level 1 Control, Ref #0047 | Dropper bottle: 5 mL | 3/13/2023
Lin-Zhi International | Amphetamine DAU Control (Urine), Methamphetamine, Level 2 Control, Ref #0048 | Dropper bottle: 5 mL | 3/13/2023
Lin-Zhi International | Cocaine Metabolite 150 DAU Calibrator, Benzoylecgonine, Cutoff Calibrator, Ref #0343 | Dropper bottle: 5 mL | 7/31/2023
Lin-Zhi International | Cocaine Metabolite 150 DAU Calibrator, Benzoylecgonine, Low Calibrator, Ref #0342 | Dropper bottle: 5 mL | 7/31/2023
Lin-Zhi International | Cocaine Metabolite 150 DAU Control, Benzoylecgonine, High Calibrator, Ref #0345 | Dropper bottle: 5 mL | 7/31/2023
Lin-Zhi International | Cocaine Metabolite 150 DAU Control, Benzoylecgonine, Intermediate Calibrator, Ref #0344 | Dropper bottle: 5 mL | 7/31/2023
Lin-Zhi International | Cocaine Metabolite 150 DAU Control, Benzoylecgonine, Level 1 Control, Ref #0347 | Dropper bottle: 5 mL | 7/31/2023
Lin-Zhi International | Cocaine Metabolite 150 DAU Control, Benzoylecgonine, Level 2 Control, Ref #0348 | Dropper bottle: 5 mL | 7/31/2023
Lin-Zhi International | Cocaine Metabolite DAU Control, Benzoylecgonine, Cutoff Calibrator, Ref #0033 | Dropper bottle: 5 mL | 7/31/2023
Lin-Zhi International | Cocaine Metabolite DAU Control, Benzoylecgonine, High Calibrator, Ref #0035 | Dropper bottle: 5 mL | 7/31/2023
Lin-Zhi International | Cocaine Metabolite DAU Control, Benzoylecgonine, High Calibrator, Ref #0035 |  | 7/31/2023
Lin-Zhi International | Cocaine Metabolite DAU Control, Benzoylecgonine, Intermediate Calibrator, Ref #0034 | Dropper bottle: 5 mL | 7/31/2023
Lin-Zhi International | Cocaine Metabolite DAU Control, Benzoylecgonine, Level 1 Control, Ref #0037 | Dropper bottle: 5 mL | 7/31/2023
Lin-Zhi International | Cocaine Metabolite DAU Control, Benzoylecgonine, Level 2 Control, Ref #0038 | Dropper bottle: 5 mL | 7/31/2023
Lin-Zhi International | Cocaine Metabolite DAU Control, Benzoylecgonine, Low Calibrator, Ref #0032 | Dropper bottle: 5 mL | 7/31/2023
Lin-Zhi International | LZI Hydrocodone 100 Calibrator (Urine), Hydrocodone, Cutoff Calibrator, Ref #0383 | Dropper bottle: 5 mL | 2/26/2023
Lin-Zhi International | LZI Hydrocodone 100 Calibrator (Urine), Hydrocodone, High Calibrator, Ref #0385 | Dropper bottle: 5 mL | 2/26/2023
Lin-Zhi International | LZI Hydrocodone 100 Calibrator (Urine), Hydrocodone, Intermediate Calibrator, Ref #0384 | Dropper bottle: 5 mL | 2/26/2023
Lin-Zhi International | LZI Hydrocodone 100 Calibrator (Urine), Hydrocodone, Low Calibrator, Ref #0382 | Dropper bottle: 5 mL | 2/26/2023
Lin-Zhi International | LZI Hydrocodone 100 Control (Urine), Hydrocodone, Level 1 Control, Ref #0387 | Dropper bottle: 5 mL | 2/26/2023
Lin-Zhi International | LZI Hydrocodone 100 Control (Urine), Hydrocodone, Level 2 Control, Ref #0388 | Dropper bottle: 5 mL | 2/26/2023
Lin-Zhi International | LZI Hydrocodone 300 Calibrator (Urine), Hydrocodone, Cutoff Calibrator, Ref #0393 | Dropper bottle: 5 mL | 2/26/2023
Lin-Zhi International | LZI Hydrocodone 300 Calibrator (Urine), Hydrocodone, High Calibrator, Ref #0395 | Dropper bottle: 5 mL | 2/26/2023
Lin-Zhi International | LZI Hydrocodone 300 Calibrator (Urine), Hydrocodone, Intermediate Calibrator, Ref #0394 | Dropper bottle: 5 mL | 2/26/2023
Lin-Zhi International | LZI Hydrocodone 300 Calibrator (Urine), Hydrocodone, Low Calibrator, Ref #0392 | Dropper bottle: 5 mL | 2/26/2023
Lin-Zhi International | LZI Hydrocodone 300 Control (Urine), Hydrocodone, Level 1 Control, Ref #0397 | Dropper bottle: 5 mL | 2/26/2023
Lin-Zhi International | LZI Hydrocodone 300 Control (Urine), Hydrocodone, Level 2 Control, Ref #0398 | Dropper bottle: 5 mL | 2/26/2023
Lin-Zhi International | LZI Tramadol Calibrator (Urine), Tramadol, Cutoff Calibrator, Ref #0413 | Dropper bottle: 5 mL | 5/19/2023
Lin-Zhi International | LZI Tramadol Calibrator (Urine), Tramadol, High Calibrator, Ref #0415 | Dropper bottle: 5 mL | 5/19/2023
Lin-Zhi International | LZI Tramadol Calibrator (Urine), Tramadol, Intermediate Calibrator, Ref #0414 | Dropper bottle: 5 mL | 5/19/2023
Lin-Zhi International | LZI Tramadol Calibrator (Urine), Tramadol, Level 1 Control, Ref #0417 | Dropper bottle: 5 mL | 5/19/2023
Lin-Zhi International | LZI Tramadol Calibrator (Urine), Tramadol, Level 2 Control, Ref #0418 | Dropper bottle: 5 mL | 5/19/2023
Lin-Zhi International | LZI Tramadol Calibrator (Urine), Tramadol, Low Calibrator, Ref #0412 | Dropper bottle: 5 mL | 5/19/2023
Lin-Zhi International | Meprobamate DAU Calibrator, Meprobamate, Cutoff Calibrator Ref #0373 | Dropper bottle: 5 mL | 7/5/2023
Lin-Zhi International | Meprobamate DAU Calibrator, Meprobamate, High Calibrator Ref #0375 | Dropper bottle: 5 mL | 7/5/2023
Lin-Zhi International | Meprobamate DAU Calibrator, Meprobamate, Intermediate Calibrator Ref #0374 | Dropper bottle: 5 mL | 7/5/2023
Lin-Zhi International | Meprobamate DAU Calibrator, Meprobamate, Low Calibrator Ref #0372 | Dropper bottle: 5 mL | 7/5/2023
Lin-Zhi International | Meprobamate DAU Control, Meprobamate, Level 1 Control Ref #0377 | Dropper bottle: 5 mL | 7/5/2023
Lin-Zhi International | Meprobamate DAU Control, Meprobamate, Level 2 Control Ref #0378 | Dropper bottle: 5 mL | 7/5/2023
Lin-Zhi International | Methamphetamine DAU Calibrator (Urine), Methamphetamine, Cutoff Calibrator, Ref #0353 | Dropper bottle: 5 mL | 3/13/2023
Lin-Zhi International | Methamphetamine DAU Calibrator (Urine), Methamphetamine, High Calibrator, Ref #0355 | Dropper bottle: 5 mL | 3/13/2023
Lin-Zhi International | Methamphetamine DAU Calibrator (Urine), Methamphetamine, Intermediate Calibrator, Ref #0354 | Dropper bottle: 5 mL | 3/13/2023
Lin-Zhi International | Methamphetamine DAU Calibrator (Urine), Methamphetamine, Low Calibrator, Ref #0352 | Dropper bottle: 5 mL | 3/13/2023
Lin-Zhi International | Methamphetamine DAU Control (Urine), Methamphetamine, Level 1, Ref #0357 Control | Dropper bottle: 5 mL | 3/13/2023
Lin-Zhi International | Methamphetamine DAU Control (Urine), Methamphetamine, Level 2 Control, Ref #0358 | Dropper bottle: 5 mL | 3/13/2023
Lin-Zhi International | Multi-Analyte DAU Calibrator Set C, Multi-Analyte, Low Calibrator, Ref #0852 | Dropper bottle: 15 mL | 9/7/2023
Lin-Zhi International | Multi-Analyte DAU Calibrator Set D, Multi-Analyte, Low Calibrator, Ref #0872 | Dropper bottle: 15 mL | 9/7/2023
Lin-Zhi International | Multi-Analyte DAU Control Set C, Multi-Analyte, Cutoff Calibrator, Ref #0853 | Dropper bottle: 15 mL | 9/7/2023
Lin-Zhi International | Multi-Analyte DAU Control Set C, Multi-Analyte, High Calibrator, Ref #0855 | Dropper bottle: 15 mL | 9/7/2023
Lin-Zhi International | Multi-Analyte DAU Control Set C, Multi-Analyte, Intermediate Calibrator, Ref #0854 | Dropper bottle: 15 mL | 9/7/2023
Lin-Zhi International | Multi-Analyte DAU Control Set C, Multi-Analyte, Level 1 Control, Ref #0857 | Dropper bottle: 15 mL | 9/7/2023
Lin-Zhi International | Multi-Analyte DAU Control Set C, Multi-Analyte, Level 2 Control, Ref #0858 | Dropper bottle: 15 mL | 9/7/2023
Lin-Zhi International | Multi-Analyte DAU Control Set D, Multi-Analyte, Cutoff Calibrator, Ref #0873 | Dropper bottle: 15 mL | 9/7/2023
Lin-Zhi International | Multi-Analyte DAU Control Set D, Multi-Analyte, High Calibrator, Ref #0874 | Dropper bottle: 15 mL | 9/7/2023
Lin-Zhi International | Multi-Analyte DAU Control Set D, Multi-Analyte, Intermediate Calibrator, Ref #0875 | Dropper bottle: 15 mL | 9/7/2023
Lin-Zhi International | Multi-Analyte DAU Control Set D, Multi-Analyte, Level 1 Control, Ref #0877 | Dropper bottle: 15 mL | 9/7/2023
Lin-Zhi International | Multi-Analyte DAU Control Set D, Multi-Analyte, Level 2 Control, Ref #0878 | Dropper bottle: 15 mL | 9/7/2023
Lin-Zhi International | Opiate 2000 DAU Calibrator (Urine), Morphine, Cutoff Calibrator, Ref #0333 | Dropper bottle: 5 mL | 4/19/2023
Lin-Zhi International | Opiate 2000 DAU Calibrator (Urine), Morphine, High Calibrator, Ref #0335 | Dropper bottle: 5 mL | 4/19/2023
Lin-Zhi International | Opiate 2000 DAU Calibrator (Urine), Morphine, Intermediate Calibrator, Ref #0334 | Dropper bottle: 5 mL | 4/19/2023
Lin-Zhi International | Opiate 2000 DAU Calibrator (Urine), Morphine, Level 2 Control, Ref #0338 | Dropper bottle: 5 mL | 4/19/2023
Lin-Zhi International | Opiate 2000 DAU Calibrator (Urine), Morphine, Low Calibrator, Ref #0332 | Dropper bottle: 5 mL | 4/19/2023
Lin-Zhi International | Opiate 2000 DAU Control (Urine), Morphine, Level 1 Control, Ref #0337 | Dropper bottle: 5 mL | 4/19/2023
Lin-Zhi International | Opiate DAU Calibrator (Urine), Morphine, Cutoff Calibrator, Ref #0023 | Dropper bottle: 5 mL | 4/19/2023
Lin-Zhi International | Opiate DAU Calibrator (Urine), Morphine, High Calibrator, Ref #0025 | Dropper bottle: 5 mL | 4/19/2023
Lin-Zhi International | Opiate DAU Calibrator (Urine), Morphine, Intermediate Calibrator, Ref #0024 | Dropper bottle: 5 mL | 4/19/2023
Lin-Zhi International | Opiate DAU Calibrator (Urine), Morphine, Level 2 Control, Ref #0028 | Dropper bottle: 5 mL | 4/19/2023
Lin-Zhi International | Opiate DAU Calibrator (Urine), Morphine, Low Calibrator, Ref #0022 | Dropper bottle: 5 mL | 4/19/2023
Lin-Zhi International | Opiate DAU Control (Urine), Morphine, Level 1 Control, Ref #0027 | Dropper bottle: 5 mL | 4/19/2023
Lipomed Inc | Barbital-D5 (0.1 mg/mL free/1 mL methanol) | Glass ampule: 1 mL | 2/17/2023
Lipomed Inc | Barbital-D5 (1.0 mg/mL free/1 mL methanol) | Glass ampule: 1 mL | 2/17/2023
Lipomed Inc | d/l-PMA-D3.HCl (0.1 mg/mL free/1 mL methanol) | Glass ampule: 1 mL | 2/17/2023
Lipomed Inc | Acetylfentanyl-D5 (0.1 mg/mL free/1 mL methanol) | Glass ampule: 1 mL | 5/31/2023
Lipomed Inc | cis-(±)-4,4′-Dimethylaminorex (1.0 mg/mL free/1 mL acetonitrile) | Glass ampule: 1 mL | 5/31/2023
Lipomed Inc | d,l-PMMA.HCl (1.0 mg/mL free/1 mL methanol) | Glass ampule: 1 mL | 5/31/2023
Lipomed Inc | d/l-PMA-D3.HCl 1 mg free base/1 mL methanol | Glass ampule: 1 mL | 2/14/2023
Lipomed Inc | d/l-PMA-D3.HCl 1.0 mg/mL in methanol | Glass ampule: 1 mL | 2/14/2023
Lipomed Inc | Methoxetamine.HCl MXE-1527-HC-1LM | Amber ampule: 1 mL | 1/17/2023
Lipomed Inc | Pentylone-D3.HCl (0.1 mg free base/1 mL methanol) | Glass ampule: 1 mL | 5/10/2023
Lipomed Inc | Pentylone-D3.HCl (1 mg free base/1 mL methanol) | Glass ampule: 1 mL | 5/10/2023
Lipomed Inc | Thiopental-D5 (0.1 mg free acid/1 mL methanol) | Glass ampule: 1 mL | 5/10/2023
Lipomed Inc | Thiopental-D5 (0.1 mg free acid/1 mL methanol) | Glass ampule: 1 mL | 5/10/2023
Lipomed Inc | Thiopental-D5 (1 mg free acid/1 mL methanol) | Glass ampule: 1 mL | 5/10/2023
o2si smart solutions | Custom Pharmaceutical Mixture 12300 8:100 ug/mL in Acetonitrile | 5 Amber ampule x 1 mL | 1/19/2023
o2si smart solutions | Trenbolone enanthate 100 μg/mL in Acetonitrile | Amber ampule: 1 mL | 3/8/2023
Research Triangle Institute | 000246A, 038717A, 047561A, 062429A, 085487A, 116308A, 116439A, 137850A, 164262A, 180967A, 181626A, 203310A, 261516A, 267691A, 287940A, 317392A, 361203A, 365134A, 443570A, 469699A, 494588A, 532849A, 567404A, 607851A, 612624A, 626842A, 648569A, 804697A, 819146A, 838615A, 905408A, 910925A, 916404A, 967362A, 973855A | HDPE bottles: 35 mL | 9/26/2023
Research Triangle Institute | 000417A, 046432A, 105281A, 110199A, 110369A, 149972A, 197596A, 198762A, 224998A, 282195A, 328224A, 344152A, 385796A, 405920A, 410977A, 526033A, 556083A, 587411A, 621619A, 634826A, 666191A, 672011A, 675132A, 696210A, 698567A, 699892A, 710814A, 738473A, 849455A, 876297A, 897484A, 922377A, 945176A, 955280A, 972199A | HDPE bottles: 35 mL | 9/26/2023
Research Triangle Institute | 000640B, 064567B, 086311B, 095720B, 102904B, 134619B, 147352B, 217703B, 222628B, 228176B, 228643B, 235125B, 253231B, 289961B, 332547B, 400521B, 476214B, 506386B, 510092B, 524681B, 552120B, 575410B, 620929B, 642031B, 685939B, 694154B, 695534B, 732818B, 779220B, 820323B, 854262B, 896441B, 928242B, 978980B, 999862B | HDPE bottles: 35 mL | 9/26/2023
Research Triangle Institute | 000657A, 022289A, 040337A, 074371A, 143761A, 203789A, 286487A, 299016A, 305341A, 345376A, 360318A, 389381A, 442737A, 472512A, 486669A, 492052A, 525556A, 542021A, 588104A, 634446A, 659388A, 672245A, 676569A, 711602A, 714482A, 726349A, 737806A, 768110A, 841281A, 844289A, 898963A, 903923A, 922182A, 930116A, 989637A | HDPE bottles: 35 mL | 9/26/2023
Research Triangle Institute | 000722B, 033907B, 072943B, 133352B, 161594B, 165846B, 219751B, 259603B, 344466B, 406383B, 409950B, 411507B, 454011B, 475594B, 504090B, 526972B, 536448B, 560901B, 599996B, 628112B, 642697B, 643338B, 695808B, 730571B, 756461B, 763558B, 783418B, 783619B, 799853B, 893821B, 942252B, 975808B, 977676B, 984020B, 997768B | HDPE bottles: 35 mL | 9/26/2023
Research Triangle Institute | 000782A, 030198A, 053115A, 058353A, 101583A, 172466A, 179849A, 204209A, 229613A, 275449A, 311070A, 330482A, 338897A, 390577A, 415523A, 433005A, 468999A, 483586A, 524233A, 654874A, 679052A, 790445A, 792559A, 801754A, 803394A, 810872A, 827419A, 845058A, 854950A, 855458A, 870153A, 884916A, 908921A, 914859A, 963105A | HDPE bottles: 35 mL | 9/26/2023
Research Triangle Institute | 001231B, 002959B, 040381B, 040869B, 044175B, 050297B, 143187B, 177250B, 235129B, 282315B, 296716B, 300335B, 346213B, 375554B, 390893B, 411974B, 427578B, 434174B, 447010B, 448275B, 456050B, 548493B, 620365B, 701457B, 718422B, 724972B, 757131B, 792051B, 808523B, 817437B, 836320B, 906233B, 909966B, 935567B, 951667B | HDPE bottles: 35 mL | 9/26/2023
Research Triangle Institute | 001812A, 033286A, 073958A, 093621A, 127539A, 130602A, 140528A, 172757A, 241267A, 263864A, 277155A, 281352A, 306785A, 337162A, 364751A, 389135A, 395038A, 430939A, 473066A, 495071A, 524610A, 539842A, 556489A, 586851A, 597782A, 628021A, 630262A, 649211A, 651613A, 713961A, 770287A, 828153A, 919274A, 951653A, 967968A | HDPE bottles: 35 mL | 9/26/2023
Research Triangle Institute | 002219B, 028473B, 104541B, 118066B, 146472B, 261637B, 297755B, 311607B, 401280B, 409562B, 510408B, 516954B, 524966B, 532690B, 563471B, 569866B, 573730B, 580947B, 632296B, 652494B, 655970B, 657611B, 660633B, 669202B, 738766B, 776669B, 794560B, 827085B, 833638B, 871213B, 881384B, 892861B, 936378B, 942279B, 995053B | HDPE bottles: 35 mL | 9/26/2023
Research Triangle Institute | 002662A, 007667A, 093728A, 095918A, 117254A, 140907A, 161514A, 247302A, 265535A, 267989A, 272566A, 308305A, 416750A, 441301A, 450075A, 475447A, 487085A, 583354A, 624907A, 630094A, 676325A, 708166A, 724412A, 765422A, 776471A, 779698A, 792467A, 810477A, 813141A, 824838A, 887721A, 936618A, 942895A, 952395A, 969450A | HDPE bottles: 35 mL | 9/26/2023
Research Triangle Institute | 002724A, 039941A, 050348A, 166616A, 185878A, 274181A, 286141A, 330926A, 354320A, 398660A, 412819A, 439401A, 479297A, 494618A, 498442A, 511734A, 565677A, 567329A, 576118A, 591454A, 672057A, 716758A, 730500A, 763353A, 790762A, 793883A, 797344A, 821404A, 824840A, 866494A, 867293A, 914659A, 960234A, 991236A, 995385A | HDPE bottles: 35 mL | 9/26/2023
Research Triangle Institute | 002820A, 020574A, 042694A, 064202A, 064841A, 125352A, 128433A, 132951A, 152824A, 154434A, 162086A, 168850A, 230665A, 244051A, 252044A, 278779A, 390205A, 414488A, 541194A, 551092A, 577313A, 584456A, 631950A, 646172A, 654063A, 791554A, 806742A, 810955A, 819637A, 824243A, 864574A, 893580A, 898319A, 972673A, 989760A | HDPE bottles: 35 mL | 9/26/2023
Research Triangle Institute | 003477B, 021213B, 029416B, 063108B, 144244B, 169073B, 180618B, 211309B, 217683B, 266851B, 348589B, 350255B, 353399B, 371112B, 376309B, 382825B, 419889B, 419941B, 447328B, 452317B, 454553B, 464638B, 485267B, 485338B, 568545B, 596227B, 680296B, 697805B, 718313B, 743501B, 750689B, 773284B, 792778B, 913766B, 979629B | HDPE bottles: 35 mL | 9/26/2023
Research Triangle Institute | 003533B, 008287B, 046129B, 062333B, 072902B, 142349B, 144210B, 199930B, 211591B, 255299B, 394249B, 431280B, 532096B, 550142B, 554981B, 568317B, 640398B, 670108B, 690446B, 690746B, 721075B, 743078B, 748841B, 751417B, 797568B, 800381B, 845004B, 857782B, 885953B, 886402B, 900208B, 960854B, 970759B, 978238B, 996520B | HDPE bottles: 35 mL | 9/26/2023
Research Triangle Institute | 003537A, 035951A, 037190A, 038387A, 039776A, 059983A, 069603A, 077093A, 083238A, 101544A, 119578A, 285911A, 295504A, 350428A, 367614A, 372349A, 469481A, 552922A, 637840A, 660314A, 671271A, 672841A, 685685A, 748490A, 748613A, 837114A, 851187A, 864356A, 895861A, 916314A, 932130A, 961531A, 962466A, 965512A, 978053A | HDPE bottles: 35 mL | 9/26/2023
Research Triangle Institute | 004017B, 047256B, 115117B, 123438B, 223997B, 309633B, 370113B, 370404B, 398995B, 418960B, 429554B, 440592B, 454156B, 457051B, 458193B, 473482B, 513890B, 519130B, 542631B, 599754B, 639791B, 640526B, 693949B, 764263B, 780451B, 836846B, 840191B, 862663B, 879067B, 912868B, 949662B, 960003B, 987096B, 992634B, 997910B | HDPE bottles: 35 mL | 9/26/2023
Research Triangle Institute | 004080A, 064445A, 064860A, 078157A, 086465A, 133184A, 238585A, 241161A, 259861A, 270524A, 297082A, 299915A, 304437A, 380111A, 399941A, 462482A, 472999A, 521582A, 523775A, 558935A, 625543A, 627620A, 632948A, 660795A, 690615A, 738840A, 813354A, 825681A, 840691A, 901425A, 929903A, 940140A, 941745A, 946452A, 963765A | HDPE bottles: 35 mL | 9/26/2023
Research Triangle Institute | 004781B, 025474B, 038760B, 098179B, 125828B, 138228B, 148311B, 158078B, 165187B, 167536B, 182334B, 199685B, 234870B, 291032B, 325072B, 329115B, 329876B, 339681B, 382869B, 401131B, 499864B, 568274B, 591265B, 598594B, 659186B, 670316B, 672243B, 707932B, 805624B, 846570B, 861540B, 868009B, 880752B, 977720B, 989511B | HDPE bottles: 35 mL | 9/26/2023
Research Triangle Institute | 005380A, 048336A, 054472A, 057392A, 071465A, 123643A, 168031A, 171703A, 184957A, 282527A, 303544A, 315979A, 316853A, 371739A, 403332A, 444883A, 490012A, 577399A, 577826A, 590032A, 678521A, 698558A, 710898A, 712851A, 713785A, 723539A, 760191A, 762766A, 821400A, 822827A, 847850A, 868025A, 877441A, 941592A, 963497A | HDPE bottles: 35 mL | 9/26/2023
Research Triangle Institute | 005619A, 024286A, 081940A, 091389A, 097913A, 130169A, 132315A, 177009A, 207162A, 213851A, 285191A, 307078A, 345606A, 403017A, 434640A, 501275A, 505626A, 513554A, 533318A, 549914A, 560778A, 570218A, 604079A, 620161A, 665245A, 772995A, 774036A, 808413A, 822847A, 867131A, 891258A, 902480A, 922808A, 961979A, 987507A | HDPE bottles: 35 mL | 9/26/2023
Research Triangle Institute | 006175B, 016509B, 019458B, 038681B, 047341B, 056450B, 097358B, 139776B, 147256B, 161968B, 170052B, 195486B, 212265B, 230270B, 273293B, 286289B, 297218B, 299441B, 415909B, 450600B, 454562B, 460496B, 469380B, 530771B, 557686B, 686580B, 702280B, 712255B, 724140B, 741034B, 771583B, 771925B, 793739B, 917213B, 968133B | HDPE bottles: 35 mL | 9/26/2023
Research Triangle Institute | 007966B, 018847B, 039939B, 095471B, 110292B, 114457B, 117979B, 144378B, 166137B, 242577B, 305329B, 349124B, 360756B, 365311B, 381130B, 395898B, 398260B, 405988B, 441536B, 449833B, 504060B, 548047B, 551608B, 557746B, 576124B, 594215B, 685062B, 695376B, 753560B, 767337B, 791575B, 866664B, 919256B, 953956B, 995220B | HDPE bottles: 35 mL | 9/26/2023
Research Triangle Institute | 008179A, 017244A, 022035A, 043259A, 087680A, 103943A, 112291A, 127353A, 148902A, 178634A, 191290A, 226124A, 232639A, 270484A, 322208A, 324846A, 333266A, 343277A, 358488A, 395491A, 438614A, 491369A, 603806A, 604332A, 658594A, 706787A, 732723A, 750032A, 759566A, 784518A, 802898A, 910056A, 950921A, 972418A, 983288A | HDPE bottles: 35 mL | 9/26/2023
Research Triangle Institute | 008797B, 046465B, 059616B, 089326B, 093978B, 109040B, 141559B, 180596B, 244991B, 263612B, 270675B, 302352B, 334134B, 371266B, 408182B, 408305B, 443111B, 449055B, 465722B, 510706B, 568715B, 584170B, 589510B, 608707B, 636905B, 684608B, 700792B, 737627B, 794697B, 848588B, 854999B, 896757B, 963923B, 983789B, 997260B | HDPE bottles: 35 mL | 9/26/2023
Research Triangle Institute | 009861B, 051162B, 058364B, 060854B, 123137B, 126667B, 132838B, 156989B, 186166B, 209541B, 250673B, 267485B, 314461B, 337760B, 343376B, 390470B, 428560B, 443914B, 491506B, 529061B, 550070B, 600713B, 622252B, 644048B, 695154B, 789900B, 801537B, 808435B, 824362B, 872377B, 948585B, 956411B, 961752B, 963664B, 964202B | HDPE bottles: 35 mL | 9/26/2023
Research Triangle Institute | 009883B, 051824B, 078676B, 090192B, 121828B, 154790B, 231033B, 233063B, 243180B, 243778B, 249200B, 359994B, 396108B, 421448B, 425017B, 425193B, 430826B, 437527B, 472636B, 518620B, 573677B, 605307B, 615343B, 626361B, 631285B, 636025B, 639460B, 643934B, 646465B, 657969B, 682934B, 704586B, 831358B, 842038B, 963148B | HDPE bottles: 35 mL | 9/26/2023
Research Triangle Institute | 010007B, 033368B, 087758B, 136192B, 147414B, 153840B, 163308B, 176753B, 214948B, 232416B, 232947B, 234002B, 286701B, 290030B, 293428B, 396644B, 439914B, 486543B, 492499B, 523984B, 525209B, 586055B, 648953B, 685051B, 744894B, 786823B, 851241B, 868422B, 874067B, 877471B, 882180B, 911786B, 912695B, 988352B, 991402B | HDPE bottles: 35 mL | 9/26/2023
Research Triangle Institute | 010011A, 062707A, 070289A, 070717A, 109061A, 161951A, 188660A, 253088A, 327623A, 342276A, 356647A, 392578A, 419649A, 436058A, 464486A, 485447A, 493286A, 498406A, 519063A, 529162A, 584079A, 592184A, 623240A, 815074A, 865193A, 890151A, 891182A, 934337A, 949290A, 949318A, 969859A, 976279A, 984077A, 984415A, 986439A | HDPE bottles: 35 mL | 9/26/2023
Research Triangle Institute | 010720B, 013282B, 015647B, 020340B, 030233B, 033054B, 084492B, 093181B, 136618B, 164298B, 188781B, 314923B, 332299B, 368263B, 373819B, 378824B, 380084B, 400086B, 401845B, 452374B, 528505B, 544160B, 548596B, 561241B, 577381B, 617241B, 659314B, 670912B, 685547B, 697650B, 717991B, 769062B, 851743B, 913012B, 948495B | HDPE bottles: 35 mL | 9/26/2023
Research Triangle Institute | 011855A, 061914A, 090030A, 147287A, 167574A, 174960A, 177157A, 253652A, 288045A, 299737A, 316597A, 320301A, 350780A, 356261A, 423202A, 432295A, 463234A, 497804A, 502215A, 527885A, 538080A, 554262A, 613772A, 672051A, 729254A, 739101A, 747954A, 754984A, 760342A, 761636A, 773292A, 806048A, 836943A, 917261A, 920085A | HDPE bottles: 35 mL | 9/26/2023
Research Triangle Institute | 011937A, 038737A, 094007A, 116844A, 168976A, 246213A, 345383A, 383104A, 383846A, 404435A, 411152A, 437964A, 443425A, 446106A, 448093A, 455244A, 476240A, 545533A, 552719A, 566046A, 582488A, 583533A, 618999A, 642520A, 664781A, 711010A, 712781A, 777260A, 834993A, 841693A, 850483A, 920736A, 938450A, 948518A, 981740A | HDPE bottles: 35 mL | 9/26/2023
Research Triangle Institute | 012759B, 012825B, 018131B, 044154B, 053624B, 075131B, 100200B, 149331B, 162707B, 173497B, 269943B, 334022B, 354572B, 386910B, 428399B, 434442B, 447397B, 467759B, 497989B, 528885B, 545516B, 563483B, 580722B, 596493B, 641412B, 690544B, 718288B, 731848B, 822808B, 909338B, 926925B, 938056B, 963819B, 966472B, 981692B | HDPE bottles: 35 mL | 9/26/2023
Research Triangle Institute | 012816B, 016170B, 107615B, 122802B, 138822B, 157523B, 175586B, 186169B, 204090B, 206012B, 273759B, 313186B, 371665B, 386116B, 424162B, 440817B, 492445B, 492820B, 520979B, 564507B, 584107B, 589096B, 600511B, 645955B, 678287B, 680823B, 686748B, 694248B, 702457B, 739833B, 752473B, 790724B, 874161B, 947644B, 960702B | HDPE bottles: 35 mL | 9/26/2023
Research Triangle Institute | 012859A, 145663A, 146392A, 179687A, 230490A, 247853A, 307804A, 309720A, 360899A, 362199A, 375191A, 387414A, 396640A, 466187A, 476218A, 541838A, 549097A, 611835A, 639325A, 678898A, 683979A, 704717A, 712437A, 726573A, 784124A, 793542A, 813496A, 842790A, 867812A, 876670A, 932455A, 960950A, 970348A, 986346A, 993424A | HDPE bottles: 35 mL | 9/26/2023
Research Triangle Institute | 014209B, 031933B, 070272B, 182847B, 184499B, 212785B, 266412B, 310094B, 314296B, 342287B, 361814B, 371125B, 373495B, 393894B, 403399B, 440241B, 454480B, 491354B, 513118B, 517092B, 581681B, 598607B, 613079B, 639608B, 703702B, 729756B, 732689B, 788018B, 860958B, 893845B, 927785B, 944083B, 979257B, 980490B, 995234B | HDPE bottles: 35 mL | 9/26/2023
Research Triangle Institute | 014674B, 057227B, 060756B, 064205B, 082056B, 096711B, 098407B, 114554B, 151073B, 158234B, 158725B, 196737B, 206504B, 301333B, 328739B, 385106B, 415009B, 420759B, 517869B, 610565B, 620877B, 647748B, 734028B, 744575B, 749927B, 827908B, 832214B, 844961B, 854662B, 905274B, 943381B, 965643B, 991851B, 994664B, 998946B | HDPE bottles: 35 mL | 9/26/2023
Research Triangle Institute | 014995A, 017220A, 029775A, 087446A, 097886A, 126962A, 131249A, 147610A, 165773A, 166737A, 243334A, 258232A, 274546A, 323474A, 441640A, 442374A, 443652A, 486536A, 503069A, 560764A, 566313A, 592810A, 634191A, 659626A, 675278A, 692764A, 716081A, 756996A, 784417A, 828079A, 855790A, 911399A, 961376A, 978531A, 999010A | HDPE bottles: 35 mL | 9/26/2023
Research Triangle Institute | 015432A, 352994A, 970578A | HDPE bottles: 35 mL | 9/26/2023
Research Triangle Institute | 015465A, 032779A, 041776A, 114353A, 174857A, 184365A, 198652A, 233739A, 306831A, 318493A, 328308A, 394345A, 406090A, 411118A, 423500A, 463529A, 464434A, 469023A, 493354A, 494412A, 544082A, 585438A, 611985A, 645802A, 659244A, 675348A, 758547A, 821616A, 841520A, 855285A, 880084A, 940922A, 960835A, 973833A, 988575A | HDPE bottles: 35 mL | 9/26/2023
Research Triangle Institute | 015736A, 019917A, 052073A, 063684A, 151600A, 249158A, 271985A, 384638A, 426106A, 426542A, 452645A, 516622A, 566419A, 603470A, 605423A, 638083A, 676028A, 688781A, 692793A, 718297A, 718798A, 737422A, 746739A, 768437A, 790425A, 791557A, 793934A, 825170A, 839013A, 843634A, 849079A, 883641A, 891927A, 960198A, 992829A | HDPE bottles: 35 mL | 9/26/2023
Research Triangle Institute | 016024B, 060477B, 099717B, 118069B, 120296B, 162639B, 169399B, 176534B, 181117B, 197067B, 220629B, 260205B, 306832B, 324164B, 370133B, 450041B, 474431B, 477904B, 527732B, 530223B, 539796B, 557822B, 559084B, 572292B, 638902B, 639030B, 649194B, 768863B, 774261B, 793884B, 844353B, 894000B, 909856B, 961472B, 978803B | HDPE bottles: 35 mL | 9/26/2023
Research Triangle Institute | 016374B, 069517B, 070570B, 079954B, 181500B, 197270B, 214409B, 235559B, 251615B, 270798B, 336643B, 381124B, 456949B, 469073B, 498704B, 506912B, 514668B, 545858B, 562868B, 585122B, 607997B, 623803B, 629350B, 644282B, 655191B, 664785B, 722449B, 735871B, 799041B, 843312B, 888799B, 904792B, 931066B, 947323B, 986737B | HDPE bottles: 35 mL | 9/26/2023
Research Triangle Institute | 018495A, 057484A, 085837A, 089123A, 098492A, 144464A, 151961A, 208495A, 229063A, 238283A, 273040A, 277090A, 289578A, 312617A, 373194A, 393993A, 452673A, 460157A, 534452A, 540869A, 546002A, 576322A, 625385A, 662858A, 664640A, 668652A, 691666A, 704392A, 764116A, 841951A, 895811A, 908667A, 932222A, 943327A, 958950A | HDPE bottles: 35 mL | 9/26/2023
Research Triangle Institute | 019575A, 250677A, 395908A | HDPE bottles: 35 mL | 9/26/2023
Research Triangle Institute | 019817A, 026218A, 079998A, 097599A, 110872A, 165952A, 239551A, 258299A, 285698A, 292780A, 324280A, 336063A, 362058A, 368903A, 371192A, 463040A, 482462A, 520872A, 548866A, 562594A, 565866A, 686812A, 687144A, 723844A, 738584A, 785676A, 813181A, 827572A, 836693A, 860522A, 869241A, 871365A, 913135A, 920572A, 999353A | HDPE bottles: 35 mL | 9/26/2023
Research Triangle Institute | 019908A, 401439A, 837744A | HDPE bottles: 35 mL | 9/26/2023
Research Triangle Institute | 021049A, 033588A, 116216A, 131399A, 143498A, 157046A, 188377A, 215168A, 220883A, 248828A, 274298A, 279697A, 327040A, 329475A, 360715A, 436855A, 487801A, 553145A, 625674A, 690536A, 695335A, 708257A, 716256A, 723210A, 809359A, 829793A, 853569A, 898234A, 904215A, 917219A, 935142A, 966271A, 968798A, 969639A, 978260A | HDPE bottles: 35 mL | 9/26/2023
Research Triangle Institute | 021402A, 544203A, 635042A | HDPE bottles: 35 mL | 9/26/2023
Research Triangle Institute | 021934A, 028331A, 109409A, 127313A, 193048A, 205716A, 240724A, 289621A, 294894A, 302624A, 345074A, 375783A, 403049A, 459993A, 495572A, 502574A, 515858A, 552845A, 558741A, 560155A, 569000A, 624634A, 708961A, 730263A, 748628A, 762280A, 797503A, 799380A, 800273A, 803004A, 832776A, 868604A, 877086A, 942786A, 966619A | HDPE bottles: 35 mL | 9/26/2023
Research Triangle Institute | 021959B, 029436B, 094674B, 133348B, 168401B, 188997B, 189180B, 203884B, 207329B, 245496B, 247798B, 248661B, 407490B, 432304B, 438231B, 440637B, 455079B, 485121B, 515137B, 524828B, 526928B, 536150B, 585993B, 662237B, 681456B, 703751B, 712689B, 723246B, 725890B, 756526B, 802232B, 823204B, 825434B, 851178B, 915734B | HDPE bottles: 35 mL | 9/26/2023
Research Triangle Institute | 022283A, 355985A, 817766A | HDPE bottles: 35 mL | 9/26/2023
Research Triangle Institute | 022632B, 056213B, 118898B, 134345B, 166427B, 237067B, 246765B, 294953B, 297704B, 313989B, 320524B, 346181B, 362679B, 377667B, 398675B, 475315B, 488866B, 501574B, 521134B, 617738B, 620393B, 688614B, 712800B, 747944B, 769673B, 780092B, 806683B, 820334B, 826800B, 852310B, 957960B, 958677B, 958802B, 986544B, 987461B | HDPE bottles: 35 mL | 9/26/2023
Research Triangle Institute | 022656A, 027084A, 050528A, 077706A, 083927A, 087642A, 097226A, 103785A, 172159A, 183903A, 196215A, 204300A, 284263A, 286297A, 293289A, 302396A, 310393A, 330544A, 369756A, 383972A, 389647A, 433732A, 467992A, 496829A, 520609A, 594032A, 668203A, 733566A, 736972A, 768229A, 772316A, 774243A, 934401A, 936723A, 952858A | HDPE bottles: 35 mL | 9/26/2023
Research Triangle Institute | 026401B, 060466B, 120714B, 144215B, 159322B, 175215B, 201158B, 202133B, 203701B, 227808B, 333870B, 337830B, 362388B, 410297B, 433007B, 464137B, 473040B, 482723B, 529035B, 541530B, 543479B, 550152B, 564393B, 608784B, 613852B, 700929B, 731136B, 842997B, 853497B, 884339B, 932834B, 960811B, 968414B, 979573B, 984064B | HDPE bottles: 35 mL | 9/26/2023
Research Triangle Institute | 028455B, 090918B, 100953B, 101817B, 134029B, 139010B, 139481B, 159723B, 284572B, 350636B, 355513B, 360937B, 412882B, 423222B, 500265B, 515802B, 521023B, 532433B, 541068B, 549707B, 551780B, 631238B, 647462B, 695852B, 708946B, 751293B, 815867B, 820213B, 863541B, 868109B, 880519B, 890121B, 901790B, 954771B, 990962B | HDPE bottles: 35 mL | 9/26/2023
Research Triangle Institute | 030607A, 032728A, 042288A, 069271A, 110779A, 135152A, 136158A, 165092A, 209863A, 221231A, 236519A, 258712A, 263629A, 319248A, 389490A, 395832A, 410831A, 450541A, 460348A, 499385A, 506664A, 585015A, 620691A, 646008A, 658043A, 666077A, 745915A, 824518A, 830796A, 869159A, 884280A, 938034A, 961801A, 970422A, 993067A | HDPE bottles: 35 mL | 9/26/2023
Research Triangle Institute | 032166B, 078568B, 086457B, 103415B, 107387B, 121092B, 122130B, 136050B, 144538B, 156050B, 159052B, 174050B, 221432B, 260776B, 265517B, 332958B, 411150B, 423364B, 448783B, 449197B, 479212B, 578349B, 583346B, 626596B, 685471B, 690968B, 692148B, 711972B, 787095B, 846726B, 871020B, 875105B, 941946B, 955201B, 958872B | HDPE bottles: 35 mL | 9/26/2023
Research Triangle Institute | 033199B, 036308B, 049594B, 051759B, 118013B, 128427B, 215915B, 234476B, 254521B, 272010B, 278267B, 290674B, 346334B, 401647B, 497641B, 508763B, 561622B, 599127B, 621025B, 655124B, 663996B, 674506B, 679123B, 692161B, 711485B, 751948B, 768302B, 797470B, 803713B, 817527B, 818773B, 841421B, 888140B, 970298B, 978960B | HDPE bottles: 35 mL | 9/26/2023
Research Triangle Institute | 033641A, 041621A, 044891A, 048572A, 095481A, 111903A, 143115A, 148369A, 196371A, 201731A, 205677A, 216369A, 240773A, 261111A, 293603A, 338722A, 380717A, 457081A, 505572A, 516009A, 577323A, 583216A, 603072A, 610584A, 626160A, 636949A, 695643A, 729840A, 804193A, 914367A, 916578A, 916626A, 947626A, 964483A, 982000A | HDPE bottles: 35 mL | 9/26/2023
Research Triangle Institute | 034015A, 102868A, 159325A, 166498A, 203016A, 349771A, 362558A, 364029A, 383016A, 396727A, 407841A, 425952A, 489321A, 521656A, 524789A, 529907A, 571867A, 578603A, 595905A, 599210A, 615726A, 620746A, 637749A, 643139A, 665048A, 668902A, 679640A, 694590A, 839128A, 853039A, 883367A, 911593A, 925352A, 980378A, 988356A | HDPE bottles: 35 mL | 9/26/2023
Research Triangle Institute | 034546B, 045495B, 046836B, 107402B, 137582B, 161536B, 162727B, 172565B, 174969B, 263442B, 342499B, 359591B, 377715B, 445886B, 478890B, 481634B, 482368B, 517692B, 518013B, 550657B, 551223B, 636401B, 646812B, 689972B, 712414B, 744504B, 758971B, 760698B, 778066B, 786947B, 812023B, 855361B, 856017B, 955893B, 980772B | HDPE bottles: 35 mL | 9/26/2023
Research Triangle Institute | 035193A, 069474A, 070849A, 141015A, 157493A, 172802A, 173994A, 190007A, 192626A, 201121A, 246529A, 257617A, 354935A, 363104A, 432009A, 444871A, 448277A, 467806A, 469047A, 500177A, 509540A, 560080A, 568091A, 615431A, 619533A, 641527A, 643780A, 672993A, 674047A, 717969A, 788376A, 802520A, 842622A, 863278A, 983044A | HDPE bottles: 35 mL | 9/26/2023
Research Triangle Institute | 036227A, 044466A, 069970A, 092297A, 122722A, 132946A, 135184A, 143727A, 158976A, 262114A, 326306A, 346430A, 390956A, 399781A, 410709A, 426434A, 432210A, 507278A, 558087A, 581630A, 613540A, 641753A, 678312A, 683397A, 759961A, 763128A, 774293A, 774334A, 821742A, 851030A, 857805A, 946005A, 971005A, 973938A, 979729A | HDPE bottles: 35 mL | 9/26/2023
Research Triangle Institute | 040085A, 058239A, 069904A, 073319A, 078516A, 110365A, 118454A, 145628A, 156680A, 163584A, 215339A, 234073A, 241229A, 249516A, 271992A, 286689A, 315452A, 329312A, 387343A, 462247A, 566798A, 575082A, 583901A, 655625A, 718961A, 742157A, 765145A, 766023A, 807522A, 846695A, 938652A, 940118A, 959165A, 968061A, 984738A | HDPE bottles: 35 mL | 9/26/2023
Research Triangle Institute | 045107A, 050714A, 084717A, 112162A, 149498A, 157212A, 210459A, 242004A, 243444A, 346909A, 386394A, 393507A, 412226A, 450142A, 453744A, 476802A, 488842A, 506377A, 537388A, 545618A, 618120A, 621802A, 659852A, 684509A, 720853A, 725716A, 793505A, 855467A, 858767A, 866173A, 867933A, 868344A, 908989A, 961006A, 980649A | HDPE bottles: 35 mL | 9/26/2023
Research Triangle Institute | 045660B, 063895B, 127347B, 142193B, 151029B, 159827B, 199070B, 249991B, 276208B, 281696B, 323982B, 328523B, 352374B, 353154B, 389419B, 448196B, 466083B, 495632B, 552001B, 665190B, 692073B, 708410B, 730759B, 749128B, 832609B, 861349B, 863426B, 867742B, 876941B, 885700B, 901719B, 917653B, 917862B, 926977B, 940176B | HDPE bottles: 35 mL | 9/26/2023
Research Triangle Institute | 047087B, 061038B, 070327B, 092956B, 099869B, 162385B, 170993B, 193876B, 282460B, 318397B, 321899B, 330327B, 370397B, 391915B, 428338B, 488520B, 499577B, 503810B, 605360B, 625325B, 667121B, 715861B, 737137B, 765542B, 822184B, 848057B, 853002B, 877854B, 917141B, 931594B, 939281B, 944156B, 974216B, 977999B, 982624 | HDPE bottles: 35 mL | 9/26/2023
Research Triangle Institute | 047799A, 052404A, 058963A, 115702A, 127767A, 131006A, 161511A, 194873A, 231020A, 239594A, 249857A, 255997A, 256247A, 264455A, 297843A, 369415A, 388068A, 478955A, 510933A, 543269A, 587533A, 627007A, 642764A, 665541A, 670009A, 706051A, 708522A, 724977A, 761142A, 848400A, 853531A, 870922A, 893323A, 958475A, 975922A | HDPE bottles: 35 mL | 9/26/2023
Research Triangle Institute | 051617B, 137462B, 151005B, 210774B, 260336B, 264434B, 283539B, 294309B, 294982B, 315317B, 352731B, 354406B, 374073B, 429679B, 447705B, 458615B, 480203B, 528638B, 535984B, 545045B, 550410B, 551553B, 574889B, 579794B, 599975B, 625225B, 674160B, 716297B, 795671B, 805538B, 814576B, 867813B, 953526B, 979299B, 988921B | HDPE bottles: 35 mL | 9/26/2023
Research Triangle Institute | 053451A, 062360A, 082390A, 096938A, 115363A, 159420A, 167736A, 172567A, 198266A, 241239A, 241606A, 255321A, 271976A, 287584A, 373598A, 448747A, 471770A, 496453A, 509718A, 575552A, 593508A, 608779A, 624439A, 702362A, 708622A, 708739A, 742210A, 759787A, 772377A, 831105A, 839871A, 898536A, 914148A, 961260A, 962882A | HDPE bottles: 35 mL | 9/26/2023
Research Triangle Institute | 055009B, 068662B, 109890B, 138567B, 152636B, 183525B, 215435B, 253021B, 276264B, 301822B, 332249B, 386232B, 445096B, 448930B, 453688B, 564897B, 614692B, 667808B, 695175B, 697980B, 735927B, 40060B, 752083B, 752334B, 753608B, 769607B, 780331B, 790953B, 829690B, 839976B, 894771B, 940975B, 944763B, 953416B, 978962B | HDPE bottles: 35 mL | 9/26/2023
Research Triangle Institute | 072591A, 278838A, 375442A | HDPE bottles: 35 mL | 9/26/2023
Research Triangle Institute | 073424B, 089630B, 113738B, 147129B, 149203B, 155527B, 308999B, 375599B, 395923B, 404613B, 456664B, 472084B, 492144B, 519562B, 521431B, 563979B, 587346B, 587439B, 616084B, 624230B, 719212B, 737389B, 739310B, 778279B, 820447B, 821655B, 838299B, 844301B, 879781B, 916197B, 916473B, 945654B, 954362B, 978856B, 989396B | HDPE bottles: 35 mL | 9/26/2023
Research Triangle Institute | 079582B, 088534B, 161341B, 163202B, 235027B, 256254B, 275848B, 294978B, 350150B, 353710B, 406911B, 420311B, 466940B, 467734B, 470011B, 494151B, 524866B, 531590B, 557100B, 558670B, 573548B, 581454B, 647019B, 712923B, 715145B, 778497B, 786937B, 801216B, 834200B, 849461B, 855910B, 878609B, 928044B, 972777B, 998673B | HDPE bottles: 35 mL | 9/26/2023
Research Triangle Institute | 085947B, 101534B, 207242B, 272650B, 307277B, 311076B, 371879B, 372646B, 377677B, 381096B, 414752B, 415862B, 420675B, 438158B, 480490B, 485430B, 532593B, 544253B, 551403B, 569804B, 605657B, 721833B, 732959B, 737790B, 743561B, 788855B, 800192B, 814187B, 814879B, 849073B, 865563B, 912962B, 954561B, 983055B, 996044B | HDPE bottles: 35 mL | 9/26/2023
Research Triangle Institute | 090131A, 097354A, 138264A, 178556A, 188122A, 224836A, 275233A, 359780A, 373515A, 385159A, 449871A, 479516A, 488681A, 512630A, 517906A, 551095A, 553247A, 564444A, 567738A, 601099A, 602445A, 627105A, 644668A, 664389A, 678968A, 694271A, 695756A, 740821A, 755475A, 802906A, 880903A, 889880A, 905783A, 908234A, 963707A | HDPE bottles: 35 mL | 9/26/2023
Research Triangle Institute | 102616A, 450013A, 946359A | HDPE bottles: 35 mL | 9/26/2023
Research Triangle Institute | 107729A, 313834A, 631923 | HDPE bottles: 35 mL | 9/26/2023
Research Triangle Institute | 12514A, 252003A, 576163A | HDPE bottles: 35 mL | 9/26/2023
Research Triangle Institute | 130762A, 154563A, 157257A, 159116A, 166529A, 177949A, 184449A, 251800A, 268475A, 281212A, 281322A, 296888A, 299371A, 333895A, 336620A, 390480A, 474434A, 495504A, 496123A, 510677A, 520200A, 569035A, 632096A, 651807A, 680550A, 683918A, 703451A, 755155A, 767449A, 857443A, 883387A, 930730A, 956868A, 966987A, 998960A | HDPE bottles: 35 mL | 9/26/2023
Research Triangle Institute | 227434A, 485738A, 635335A | HDPE bottles: 35 mL | 9/26/2023
Research Triangle Institute | 374245A, 533051A, 546156A | HDPE bottles: 35 mL | 9/26/2023
Research Triangle Institute | 608381A, 713777A, 916068A | HDPE bottles: 35 mL | 9/26/2023
Research Triangle Institute | OF23-01 | HDPE vials: 3 mL | 2/21/2023
Research Triangle Institute | OF23-02 | HDPE vials: 3 mL | 2/21/2023
Research Triangle Institute | OF23-03 | HDPE vials: 3 mL | 2/21/2023
Research Triangle Institute | OF23-04 | HDPE vials: 3 mL | 2/21/2023
Research Triangle Institute | OF23-05 | HDPE vials: 3 mL | 2/21/2023
Research Triangle Institute | OF23-06 | HDPE vials: 3 mL | 2/21/2023
Research Triangle Institute | OF23-07 | HDPE vials: 3 mL | 2/21/2023
Research Triangle Institute | OF23-08 | HDPE vials: 3 mL | 2/21/2023
Research Triangle Institute | OF23-09 | HDPE vials: 3 mL | 2/21/2023
Research Triangle Institute | OF23-10 | HDPE vials: 3 mL | 2/21/2023
Research Triangle Institute | OF23-11 | HDPE vials: 3 mL | 2/21/2023
Research Triangle Institute | OF23-12 | HDPE vials: 3 mL | 2/21/2023
Research Triangle Institute | OF23-13 | HDPE vials: 3 mL | 2/21/2023
Research Triangle Institute | OF23-14 | HDPE vials: 3 mL | 2/21/2023
Research Triangle Institute | OF23-15 | HDPE vials: 3 mL | 2/21/2023
Research Triangle Institute | PM_2023 | HDPE Bottle: 2,200 mL | 3/20/2023
Restek Corporation | Tetrahydrocannabivarin Acid (THCVA) Standard | Glass ampule: 1.3 mL | 2/23/2023
RTI | RTI Spike Urine 48117 | HDPE vial: 35 mL | 7/26/2023
RTI | RTI Spike Urine 48118 | HDPE vial: 35 mL | 7/26/2023
RTI | RTI Spike Urine 48119 | HDPE vial: 35 mL | 7/26/2023
RTI | RTI Spike Urine 48120 | HDPE vial: 35 mL | 7/26/2023
RTI | RTI Spike Urine 48121 | HDPE vial: 35 mL | 7/26/2023
RTI | RTI Spike Urine 48122 | HDPE vial: 35 mL | 7/26/2023
RTI International | 2023 Occ 1 Sample 1 | HDPE vial: 5 mL | 3/3/2023
RTI International | 2023 Occ 1 Sample 2 | HDPE vial: 5 mL | 3/3/2023
RTI International | 2023 Occ 1 Sample 3 | HDPE vial: 5 mL | 3/3/2023
RTI International | 2023 Occ 1 Sample 5 | HDPE vial: 5 mL | 3/3/2023
RTI International | 2023 Occ 2 Sample 1 | HDPE vial: 5 mL | 3/3/2023
RTI International | 2023 Occ 2 Sample 3 | HDPE vial: 5 mL | 3/3/2023
RTI International | 2023 Occ 2 Sample 4 | HDPE vial: 5 mL | 3/3/2023
RTI International | 2023 Occ 2 Sample 5 | HDPE vial: 5 mL | 3/3/2023
RTI International | 2023 Occ 2 Sample 6 | HDPE vial: 5 mL | 3/3/2023
Siemens Healthcare Diagnostics Inc | ADVIA Chemistry TDM CAL | Kit: 6 vials x 3 mL each | 3/6/2023
Siemens Healthcare Diagnostics Inc | Atellica CH TDM CAL | Kit: 6 vials x 3 mL each | 3/6/2023

The Assistant Administrator has found that each of the compounds, mixtures, and preparations described in Chart II, below, is not consistent with the criteria stated in 21 U.S.C. 811(g)(3)(B) and in 21 CFR 1308.23. Accordingly, the Assistant Administrator has determined that the chemical preparations or mixtures generally described in Chart II, below, and specifically described in the application materials received by DEA, are not exempt from application of any part of the CSA or from application of any part of the CFR, with regard to the requested exemption pursuant to 21 CFR 1308.23, as of the date that was provided in the determination letters to the individual requesters.

Chart II
Supplier | Product name | Form | Application date
Absolute Standards, Inc | Florida Total THC—PT HPLC in Hemp Oil, 10-1,000 ug/g, in Hemp Oil:Acetone:Acetonitrile (5:4:1) | Glass ampoule: 1 mL (~1 g) | 6/23/2023
Absolute Standards, Inc | Tryptamine PT, Varied µg/g, in Mushroom Matrix | Glass ampoule: 1 g | 2/10/2023
Cayman Chemical Company | Benzodiazepine Mixture 1 (CRM) 250 µg/ml in Acetonitrile | Glass ampule: 1.0 mL | 6/8/2023
Cayman Chemical Company | Benzodiazepine Mixture 1 (CRM) 250 µg/ml in Methanol | Glass ampule: 1.0 mL | 6/8/2023
Cayman Chemical Company | Benzodiazepine Mixture 1 (CRM) 500 µg/ml in Acetonitrile | Glass ampule: 1.0 mL | 6/8/2023
Cayman Chemical Company | Benzodiazepine Mixture 1 (CRM) 500 µg/ml in Methanol | Glass ampule: 1.0 mL | 6/8/2023
Cayman Chemical Company | iso-LSD (exempt preparation) 100 µg/mL in Acetonitrile | Glass ampule: 1.0 mL | 4/6/2023
CPI International | Custom NM Cannabinoid Mixture 4-0442, 2,500 ug/mL, 1 mL (ISO 17025) | Glass ampule: 1 mL | 1/19/2023
LGC GmbH | LGCAMP0528.00-01 | Glass Vial: 1 mL | 8/9/2023
LGC GmbH | LGCAMP1346.00-11 | Glass vial: 1 mL | 8/9/2023
LGC GmbH | LGCAMP1346.06-11 | Glass vial: 1 mL | 8/9/2023
o2si smart solutions | Custom NM Cannabinoid Mixture 4-0442, 2,500 ug/mL, 1 mL (ISO 17025) | Amber ampule: 1 mL | 1/19/2023
o2si smart solutions | EPA Method 8270 Appendix IX Mix 1 with Phentermine, 17 components, 2,000 µg/mL in Dichloromethane 1 mL DRE-GS09000443DI | 5 Amber ampules, 1 mL each | 8/30/2022

Opportunity for Comment

Pursuant to 21 CFR 1308.23(e), any interested person may submit written comments on or objections to any chemical preparation in this order that has been approved or denied as exempt. If any comments or objections raise significant issues regarding any finding of fact or conclusion of law upon which this order is based, the Assistant Administrator will immediately suspend the effectiveness of any applicable part of this order until he may reconsider the application in light of the comments and objections filed. Thereafter, the Assistant Administrator shall reinstate, revoke, or amend his original order as he determines appropriate.

Approved Exempt Chemical Preparations Are Posted on the DEA's Website

A list of all current exemptions, including those listed in this order, is available on the DEA's website at http://www.DEAdiversion.usdoj.gov/schedules/exempt/exempt_chemlist.pdf. The dates of applications of all current exemptions are posted for easy reference.

Thomas Prevoznik,
Assistant Administrator.

[FR Doc. 2024-10465 Filed 5-14-24; 8:45 am]

BILLING CODE 4410-09-P